ENVIRONMENTAL PROTECTION AGENCY

40 CFR Part 63

[FRL-7163-4]

RIN 2060-AH41

National Emission Standards for Hazardous Air Pollutants: Organic Liquids Distribution (Non-Gasoline)

AGENCY: Environmental Protection Agency (EPA).

ACTION: Proposed rule.

SUMMARY: This action proposes national emission standards for hazardous air pollutants (NESHAP) for organic liquids distribution (OLD) (non-gasoline) operations, which are carried out at storage terminals, refineries, crude oil pipeline stations, and various manufacturing facilities. These proposed standards would implement section 112(d) of the Clean Air Act (CAA) by requiring all OLD operations at plant sites that are major sources to meet hazardous air pollutant (HAP) emission standards reflecting the application of the maximum achievable control technology (MACT).

The EPA estimates that approximately 70,200 megagrams per year (Mg/yr) (77,300 tons per year (tpy)) of HAP are emitted from facilities in this source category. Although a large number of organic HAP are emitted nationwide from these operations, benzene, ethylbenzene, toluene, vinyl chloride, and xylenes are among the most prevalent. These HAP have been shown to have a variety of carcinogenic and noncancer adverse health effects.

The EPA estimates that these proposed standards would result in the reduction of HAP emissions from major sources in the OLD source category by 28 percent. The emissions reductions achieved by these proposed standards, when combined with the emissions reductions achieved by other similar standards, would provide protection to the public and achieve a primary goal of the CAA.

DATES: Comments. Submit comments on or before June 3, 2002.

Public Hearing. If anyone contacts the EPA requesting to speak at a public hearing by April 22, 2002, a public hearing will be held on May 2, 2002.

ADDRESSES: Comments. By U.S. Postal Service, send comments (in duplicate if possible) to: Air and Radiation Docket and Information Center (6102), Attention Docket Number A-98-13, U.S. EPA, 1200 Pennsylvania Avenue, NW, Washington, DC 20460. In person or by courier, deliver comments (in duplicate if possible) to: Air and Radiation Docket and Information Center (6102), Attention Docket Number A-98-13, U.S. EPA, 401 M Street, SW, Washington DC 20460. The EPA requests that a separate copy also be sent to the contact person listed below (see FOR FURTHER INFORMATION CONTACT).

Public Hearing. If a public hearing is held, it will be held at 10 a.m. in the EPA's Office of Administration Auditorium, Research Triangle Park, North Carolina, or at an alternate site nearby.

Docket. Docket No. A-98-13 contains supporting information used in developing the standards. The docket is located at the U.S. EPA, 401 M Street, SW, Washington, DC 20460, in Room M-1500, Waterside Mall (ground floor), and may be inspected from 8:30 a.m. to 5:30 p.m., Monday through Friday, except for legal holidays.

FOR FURTHER INFORMATION CONTACT: Ms. Martha Smith, Waste and Chemical Processes Group, Emission Standards Division (MD-13), U.S. EPA, Research Triangle Park, NC 27711; phone (919) 541-2421, e-mail “smith.martha@epa.gov.”

SUPPLEMENTARY INFORMATION: Comments. Comments and data may be submitted by electronic mail (e-mail) to: a-and-r-docket@epa.gov. Electronic comments must be submitted as an ASCII file to avoid the use of special characters and encryption problems. Comments will also be accepted on disks in WordPerfect® Corel 8 file format. All comments and data submitted in electronic form must note the docket number: A-98-13. No confidential business information (CBI) should be submitted by e-mail. Electronic comments may be filed online at many Federal Depository libraries.

Commenters wishing to submit proprietary information for consideration must clearly distinguish such information from other comments and clearly label it as CBI. Send submissions containing such proprietary information directly to the following address, and not to the public docket, to ensure that proprietary information is not inadvertently placed in the docket: Attention: OAQPS Document Control Officer, Attn: Ms. Martha Smith, U.S. EPA, 411 W. Chapel Hill Street, Room 740B, Durham, NC 27701. The EPA will disclose information identified as CBI only to the extent allowed by the procedures set forth in 40 CFR part 2. If no claim of confidentiality accompanies a submission when it is received by the EPA, the information may be made available to the public without further notice to the commenter.

Public Hearing. Persons interested in presenting oral testimony or inquiring as to whether a hearing is to be held should contact Ms. JoLynn Collins of the EPA at (919) 541-5671 at least 2 days in advance of the public hearing. Persons interested in attending the public hearing must also call Ms. Collins to verify the time, date, and location of the hearing. The public hearing will provide interested parties the opportunity to present data, views, or arguments concerning these proposed emission standards.

Docket. The docket is an organized and complete file of all the information considered by the EPA in the development of this rulemaking. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the CAA.) The regulatory text and other materials related to this rulemaking are available for review in the docket, or copies may be mailed on request from the Air Docket by calling (202) 260-7548. A reasonable fee may be charged for copying docket materials.

World Wide Web (WWW). In addition to being available in the docket, an electronic copy of this proposed rule is also available on the WWW through the Technology Transfer Network (TTN). The TTN provides information and technology exchange in various areas of air pollution control. Following signature, a copy of the rule will be posted on the TTN's policy and guidance page for newly proposed or promulgated rules: http://www.epa.gov/ttn/oarpg. If more information regarding the TTN is needed, call the TTN HELP line at (919) 541-5384.

Title Change. For purposes of this proposed rule, the title has been changed to “National Emission Standards for Hazardous Air Pollutants: Organic Liquids Distribution (non-Gasoline)” to better describe the affected population. The source category list and regulatory agenda will be amended to reflect this name change in a separate action.

Background Information. The background information for the proposed standards is not contained in a formal background information document (BID). Instead, we have prepared technical memoranda covering the following topic areas:

• Industry description.

• Model OLD plants.

• Industry baseline emissions.

• Emission control options.

• MACT floor determination.

• Environmental, energy, and cost impacts.

• Economic impacts.

These memos have been combined into a technical support document (TSD), which is included in Docket No. A-98-13.

In addition, there are several other memos that discuss individual issues, such as selection of the affected organic HAP and the minimum HAP cutoff defining the affected organic liquids. Each of these technical memos has also been placed in Docket No. A-98-13.

Regulated Entities. Categories and entities potentially regulated by this action include:

Category | SIC * | NAICS * | Examples of regulated entities
Industry | 2821 2865 2869 2911 4226 4612 5169 5171 | 325211 325192 325188 32411 49311 49319 48611 42269 42271 | Operations at major sources that transfer organic liquids into or out of the plant site, including: liquid storage terminals, crude oil pipeline stations, petroleum refineries, chemical manufacturing facilities, and other manufacturing facilities with collocated OLD operations.
Federal Government |  |  | Federal agency facilities that operate any of the types of entities listed under the “industry” category in this table.
*Considered to be the primary industrial codes for the plant sites with OLD operations, but the list is not necessarily exhaustive.

This table is not intended to be exhaustive, but rather provides a guide for readers regarding entities likely to be regulated by this action. To determine whether your facility would be regulated by this action, you should examine the applicability criteria in § 63.2334 of the proposed rule. If you have any questions regarding the applicability of this proposed action to a particular entity, consult the person listed in the preceding FOR FURTHER INFORMATION CONTACT section or your EPA regional representative as listed in § 63.13 of 40 CFR part 63, subpart A (General Provisions).

Outline. The following outline is provided to assist you in reading this preamble.

I. Background

A. How would this rule relate to other EPA regulatory actions?

B. What is the source of authority for development of NESHAP?

C. What criteria are used in the development of NESHAP?

D. What are the potential health effects associated with HAP emitted from OLD operations?

II. Summary of the Proposed Rule

A. What source category would be affected by the proposed NESHAP?

B. What are the primary sources of emissions and what are the emissions?

C. What would be the affected source?

D. What would be the emission limits, operating limits, and other standards?

E. What would be the testing and initial compliance requirements?

F. What would be the continuous compliance provisions?

G. What would be the notification, recordkeeping, and reporting requirements?

III. Rationale for Selecting the Proposed Standards

A. How did we select the source category?

B. How did we select the proposed pollutants to be regulated?

C. How did we select the proposed affected source?

D. How did we determine the basis and level of the proposed standards for existing and new sources?

E. How did we select the format of the proposed standards?

F. How did we select the proposed testing and initial compliance requirements?

G. How did we select the proposed continuous compliance requirements?

H. How did we select the proposed notification, recordkeeping, and reporting requirements?

IV. Summary of Environmental, Energy, and Economic Impacts

A. What are the air quality impacts?

B. What are the cost impacts?

C. What are the economic impacts?

D. What are the nonair quality health, environmental, and energy impacts?

V. Administrative Requirements

A. Executive Order 12866, Regulatory Planning and Review

B. Executive Order 13132, Federalism

C. Executive Order 13084, Consultation and Coordination with Indian Tribal Governments

D. Executive Order 13045, Protection of Children from Environmental Health Risks and Safety Risks

E. Executive Order 13211, Actions Concerning Regulations That Significantly Affect Energy Supply, Distribution, or Use

F. Unfunded Mandates Reform Act of 1995

G. Regulatory Flexibility Act (RFA) as amended by the Small Business Regulatory Enforcement Fairness Act of 1996 (SBREFA), 5 U.S.C. 601 et seq.

H. Paperwork Reduction Act

I. National Technology Transfer and Advancement Act

I. Background

A. How Would This Rule Relate to Other EPA Regulatory Actions?

Owners and operators of plant sites which contain organic liquids distribution activities that are potentially subject to these proposed standards for OLD operations may also be subject to other NESHAP because of other activities that take place on the same plant site. Some tank farms are used to store and transfer organic liquids onto or off a synthetic organic chemical manufacturing industry (SOCMI) plant site that is subject to 40 CFR part 63, subparts F, G, and H—National Emission Standards for Organic Hazardous Air Pollutants from the Synthetic Organic Chemical Manufacturing Industry (commonly referred to as the hazardous organic NESHAP, or “HON”). Distribution of crude oil or other organic liquids at a petroleum refinery subject to 40 CFR part 63, subpart CC—National Emission Standards for Hazardous Air Pollutants from Petroleum Refineries (the Refinery NESHAP), may also come under OLD NESHAP coverage. Finally, bulk gasoline terminals subject to 40 CFR part 63, subpart R—National Emission Standards for Gasoline Distribution Facilities (Bulk Gasoline Terminals and Pipeline Breakout Stations) may distribute non-gasoline organic liquids through dedicated equipment which would fall under these proposed OLD standards. At plant sites subject to both the proposed OLD standards and another NESHAP, the OLD NESHAP, when finalized, would apply only to the specific equipment and activities that are related directly to the distribution of affected non-gasoline organic liquids (which includes liquids moved either onto or off the site).

Some existing NESHAP may already regulate, and some NESHAP under development may intend to regulate, equipment used to distribute organic liquids (e.g., certain storage tanks or transfer racks at chemical production facilities subject to the HON). To avoid overlap of requirements in these cases, the OLD NESHAP would not apply to any OLD emission source already complying with control provisions under another part 63 NESHAP. For other applicable NESHAP that are not yet final and which potentially would apply to OLD equipment, the NESHAP that have the earliest compliance date would apply. One NESHAP, 40 CFR part 63, subpart FFFF, the Miscellaneous Organic Chemical Production and Processes NESHAP (MON), is being developed concurrently with the OLD NESHAP, and potentially will regulate certain organic liquid distribution sources (i.e., storage tanks, transfer racks, and equipment leaks) located at MON facility plant sites. For all such distribution sources at MON facilities, the OLD NESHAP would defer to the MON and would not apply to any of those sources.

The Pollution Prevention Act of 1990 (42 U.S.C. 13101 et seq., Public Law 101-508, November 5, 1990) establishes the national policy of the United States for pollution prevention. This Act declares that: (1) Pollution should be prevented or reduced whenever feasible; (2) pollution that cannot be prevented or reduced should be recycled or reused in an environmentally-safe manner wherever feasible; (3) pollution that cannot be recycled or reused should be treated; and (4) disposal or release into the atmosphere should be chosen only as a last resort.

The OLD operations covered by these proposed standards distribute organic liquids that are often manufactured and consumed by other parties. Thus, two of the most common approaches for preventing pollution (product reformulation or substituting less polluting products) are not available to these facilities. Similarly, these facilities cannot use recycling or reuse as a way of limiting the amount of these liquids that they handle. However, the proposed equipment and work practice standards would prevent pollution from two of the principal emission sources in OLD operations. For storage tanks, we expect floating roofs to be used as a common alternative to add-on control technologies. For leaks from equipment such as pumps or valves, the required leak detection and repair program also would prevent pollution at the source without the need for add-on control equipment. The EPA is considering whether there are any pollution prevention measures that could be specified as alternatives to the control approaches in the proposed standards. We are specifically requesting comments from the public on ways that additional pollution prevention measures could be applied at OLD operations facilities.

B. What Is the Source of Authority for Development of NESHAP?

Section 112 of the CAA requires us to list categories and subcategories of major sources and area sources of HAP, and to establish NESHAP for the listed source categories and subcategories. The category of major sources covered by today's proposed NESHAP was on our initial list of HAP emission source categories as published in the Federal Register on July 16, 1992 (57 FR 31576). Major sources of HAP are those that have the potential to emit 10 tons/yr or more of any one HAP or 25 tons/yr or more of any combination of HAP.

C. What Criteria Are Used in the Development of NESHAP?

Section 112 of the CAA requires that we establish NESHAP for the control of HAP from both new and existing major sources. The CAA requires the NESHAP to reflect the maximum degree of reduction in emissions of HAP that is achievable. This level of control is commonly referred to as the maximum achievable control technology (MACT).

The MACT floor is the minimum control level allowed for NESHAP and is defined under section 112(d)(3) of the CAA. In essence, the MACT floor ensures that the standard is set at a level that assures that all major sources achieve the level of control at least as stringent as that already achieved by the better-controlled and lower-emitting sources in each source category or subcategory. For new sources, the MACT floor cannot be less stringent than the emission control that is achieved in practice by the best-controlled similar source. The MACT standards for existing sources can be less stringent than standards for new sources, but they cannot be less stringent than the average emission limitation achieved by the best-performing 12 percent of existing sources in the category or subcategory (or the best-performing 5 sources for categories or subcategories with fewer than 30 sources).

In developing MACT, we also consider control options that are more stringent than the floor. We may establish standards more stringent than the floor based on consideration of the cost of achieving the emissions reductions, any health and environmental impacts, and energy requirements.

D. What Are the Potential Health Effects Associated With HAP Emitted From OLD Operations?

The type of adverse health effects associated with HAP emitted by this source category can range from mild to severe. The extent and degree to which health effects may be experienced is dependent upon: (1) The ambient concentrations observed in the area; (2) duration and frequency of exposures; and (3) characteristics of exposed individuals (e.g., genetics, age, preexisting health conditions, and lifestyle) which vary greatly within the population. Some of these factors are also influenced by source-specific characteristics (e.g., emission rates, release heights, and local weather conditions) as well as pollutant-specific characteristics such as toxicity. The following is a summary of the potential health effects associated with exposure to some of the primary HAP emitted from OLD operations.

Benzene. Acute (short-term) inhalation exposure of humans to benzene may cause drowsiness, dizziness, and headaches, as well as eye, skin, and respiratory tract irritation, and, at high levels, unconsciousness. Chronic (long-term) inhalation exposure has caused various disorders in the blood, including reduced numbers of red blood cells and aplastic anemia, in occupational settings. Reproductive effects have been reported for women exposed by inhalation to high levels, and adverse effects on the developing fetus have been observed in animal tests. Increased incidence of leukemia (cancer of the tissues that form white blood cells) has been observed in humans occupationally exposed to benzene. The EPA has classified benzene as a Group A, known human carcinogen.

Ethylbenzene. Acute exposure to ethylbenzene in humans results in respiratory effects such as throat irritation and chest constriction, irritation of the eyes, and neurological effects such as dizziness. Chronic exposure to ethylbenzene by inhalation in humans has shown conflicting results regarding its effects on the blood. Animal studies have reported effects on the blood, liver, and kidneys from chronic inhalation exposures. No information is available on the developmental or reproductive effects of ethylbenzene in humans, but animal studies have reported developmental effects, including birth defects in animals exposed via inhalation. The EPA has classified ethylbenzene in Group D, not classifiable as to human carcinogenicity.

Toluene. Humans exposed to toluene for short periods may experience irregular heartbeat and effects on the central nervous system (CNS) such as fatigue, sleepiness, headaches, and nausea. Repeated exposure to high concentrations may induce loss of coordination, tremors, decreased brain size, and involuntary eye movements, and may impair speech, hearing, and vision. Chronic exposure to toluene in humans has also been indicated to irritate the skin, eyes, and respiratory tract, and to cause dizziness, headaches, and difficulty with sleep. Children exposed to toluene before birth may suffer CNS dysfunction, attention deficits, and minor face and limb defects. Inhalation of toluene by pregnant women may increase the risk of spontaneous abortion. The EPA has developed a reference concentration of 0.4 milligrams per cubic meters (mg/m³) for toluene. Inhalation of this concentration or less over a lifetime would be unlikely to result in adverse noncancer effects. No data exist that suggest toluene is carcinogenic. The EPA has classified toluene in Group D, not classifiable as to human carcinogenicity.

Vinyl chloride. Acute exposure to high levels of vinyl chloride in air has resulted in CNS effects such as dizziness, drowsiness, and headaches in humans. Chronic exposure to vinyl chloride through inhalation and oral exposure in humans has resulted in liver damage. Human and animal studies show adverse effects which raise a concern about potential reproductive and developmental hazards to humans from exposure to vinyl chloride. Cancer is a major concern from exposure to vinyl chloride via inhalation, as vinyl chloride exposure has been shown to increase the risk of a rare form of liver cancer in humans. The EPA has classified vinyl chloride as a Group A, known human carcinogen.

Xylenes. Short-term inhalation of mixed xylenes (a mixture of three closely related compounds) in humans may cause irritation of the nose and throat, nausea, vomiting, gastric irritation, mild transient eye irritation, and neurological effects. Long-term inhalation of xylenes in humans may result in CNS effects such as headaches, dizziness, fatigue, tremors, and incoordination. Other reported effects include labored breathing, heart palpitation, severe chest pain, abnormal electrocardiograms, and possible effects on the blood and kidneys. Developmental effects have been indicated from xylene exposure via inhalation in animals. Not enough information exists to determine the carcinogenic potential of mixed xylenes. The EPA has classified xylenes in Group D, not classifiable as to human carcinogenicity.

Implementation of the OLD NESHAP would reduce nationwide organic HAP emissions significantly from current levels. Thus, the proposed standards have the potential for providing both cancer and noncancer related health benefits.

By requiring facilities to reduce organic HAP emitted from OLD operations, the proposed standards would also reduce emissions of volatile organic compounds (VOC). Many VOC react photochemically with nitrogen oxides in the atmosphere to form tropospheric (low-level) ozone. A number of factors affect the degree to which VOC emission reductions will reduce ambient ozone concentrations.

Human laboratory and community studies have shown that exposure to ozone levels that exceed the national ambient air quality standards (NAAQS) can result in various adverse health impacts such as alterations in lung capacity and aggravation of existing respiratory disease. Animal studies have shown increased susceptibility to respiratory infection and lung structure changes. The VOC emissions reductions resulting from these proposed NESHAP will reduce low-level ozone and have a positive impact toward minimizing these health effects.

Among the welfare impacts from exposure to air that exceeds the ozone NAAQS are damage to some types of commercial timber and economic losses for commercially valuable crops such as soybeans and cotton. Studies have shown that exposure to excessive ozone can disrupt carbohydrate production and distribution in plants. This can lead in turn to reduced root growth, reduced biomass or yield, reduced plant vigor (which can cause increased susceptibility to attack from insects and disease and damage from cold), and diminished ability to successfully compete with more tolerant species. In addition, excessive ozone levels may disrupt the structure and function of forested ecosystems.

II. Summary of the Proposed Rule

A. What Source Category Would Be Affected by the Proposed NESHAP?

The proposed NESHAP would affect organic liquids distribution activities which, taken together, are considered to be a facility, or OLD operations. The regulated liquids consist of organic liquids that contain 5 percent by weight or more of the organic HAP compounds in Table 1 of the proposed subpart EEEE, and all crude oil except black oil. The activities in this category occur either at individual distribution facilities or on manufacturing plant sites that consume or produce the organic liquids regulated by the proposed standards. Only those OLD operations at major source facilities or plant sites would be regulated.

B. What Are the Primary Sources of Emissions and What Are the Emissions?

The emission of organic HAP vapors results from storing and transferring HAP-containing liquids. Fixed-roof tanks undergo losses due to atmospheric changes and changes in the liquid level in the tank. Floating roof tanks experience standing storage and liquid withdrawal losses and also losses from fittings on the floating deck.

As organic liquids are loaded into cargo tanks (tank trucks and railcars) at transfer racks, vapors are emitted to the atmosphere as the rising liquid displaces vapors formed above the liquid. To control these vapor emissions, the parked cargo tank may be connected to a closed vent vapor collection system and control device. Even in these controlled transfer systems, vapors may leak to the atmosphere from hatch covers, relief valves, or other parts of the system.

The equipment components used to convey organic liquids between tanks or pipelines can also be a source of vapor leakage. At OLD operations, the equipment of concern are pumps, valves, and sampling connection systems.

The volatile constituents of organic liquids, many of which are HAP, escape in the vapors emitted from these sources. Our 1998 survey of the OLD industry indicates that essentially all of the organic HAP listed in the CAA are present in the liquids distributed in these operations. Based on that survey and other information, we have estimated the total current HAP emissions from OLD operations to be 70,200 Mg/yr (77,300 tons/yr).

C. What Would Be the Affected Source?

The affected source would be the combination of all regulated OLD activities and equipment at a single OLD operation. The following regulated activities are typically performed within OLD operations and are part of the affected source:

• Transfer of organic liquids into, and storage in, fixed-roof or floating roof storage tanks;

• Transfer of organic liquids into cargo tanks (tank trucks or railcars) at transfer racks; and

• Transfer of organic liquids through pumps, piping, valves, and other equipment that may potentially leak.

Only those OLD operations facilities with an organic liquids throughput greater than 27.6 million liters (7.29 million gallons) per year (either into or out of the facility) would be subject to the proposed standards. Also, only those transfer rack loading positions with an organic liquids throughput of 11.8 million liters (3.12 million gallons) per year or greater would be required to install the specified emission controls on those activities.

D. What Would Be the Emission Limits, Operating Limits, and Other Standards?

The proposed NESHAP have various formats for the different activities and equipment being regulated. For affected storage tanks, you would have two options for control. First, you could install a closed vent system and control device with at least a 95 percent control efficiency for organic HAP or total organic compounds (TOC). As an option, combustion devices may meet an exhaust concentration limit of 20 parts per million by volume (ppmv) of organic HAP or TOC. An operating parameter of the control device would have to be continuously monitored and maintained within the established operating limits. Second, you could meet a work practice standard by installing a properly constructed floating roof in the affected tank. The tank size and vapor pressure cutoffs defining affected tanks would be different for existing and new tanks.

For affected organic liquids transfer racks, you would have to install a vapor collection system and a control device that achieves 95 percent control efficiency or 20 ppmv exhaust concentration for combustion devices, and you would have to continuously monitor the device. A work practice standard would apply to cargo tanks loading at these controlled racks. Each tank equipped with vapor collection equipment would have to be tested annually for vapor tightness using EPA Method 27. Cargo tanks not equipped with vapor collection equipment would have to be tested using the Department of Transportation (DOT) standard test procedures at DOT's required frequency. For cargo tanks that you do not own, you would have to ensure that each tank loading at affected loading positions is certified for vapor tightness. These proposed standards would be the same for existing or new transfer racks.

A work practice standard would also apply to equipment (pumps, valves, and sampling connection systems) that is in organic liquids service for at least 300 hours per year. This form of control involves regular instrument monitoring for leaks, and repair of leaking equipment. Owners and operators would have the option of applying the provisions of either subpart TT or UU of 40 CFR part 63. This leak detection and repair (LDAR) standard is being proposed for both existing and new equipment.

E. What Would Be the Testing and Initial Compliance Requirements?

Affected OLD operations would need to determine which of their distributed liquids qualify as an organic liquid as defined in the proposed standards. The specified test method for this is EPA Method 18 in 40 CFR part 60, appendix A, and you would have the option of suggesting alternative approaches for the Administrator's approval.

Control devices used for storage tanks or transfer racks would be subject to performance testing using EPA Method 18, 25, or 25A of 40 CFR part 60, appendix A, or Method 316 of 40 CFR part 63, appendix A, depending on the constituents of the gas stream being controlled and the format of the standard (organic HAP or TOC) the facility selects for its compliance demonstration. Floating roof tanks would be subject to visual and seal gap inspections to determine initial compliance with the tank work practice standards. The EPA Method 21 of 40 CFR part 60, appendix A, is specified for the equipment LDAR program. y

All cargo tanks equipped with vapor collection equipment that are used to distribute organic liquids from affected transfer rack loading positions would have to be tested annually for vapor tightness using EPA Method 27 of 40 CFR part 60, appendix A. For cargo tanks that are not so equipped, the current approved DOT methods would continue to be used.

Initial compliance with the emission limits for storage tanks and transfer racks would consist of demonstrating that the control device achieves 95 percent control efficiency for organic HAP or TOC, or 20 ppmv exhaust concentration for combustion devices. Note that all organic HAP are considered in this emission limit, not just the HAP listed in Table 1 of this proposed subpart. During the same initial performance test (or during a design evaluation of the device), you would establish the reference value or range for the appropriate operating parameter of the control device.

Work practice standards are being proposed for storage tanks, transfer racks, and equipment. For floating roof storage tanks, you would have to visually inspect each internal floating roof tank before the initial filling. For external floating roof tanks, you must perform a seal gap inspection of the primary and secondary deck seals within 90 days after filling.

For affected transfer rack loading positions, you would have to maintain documentation showing that cargo tanks that will load at those positions are certified as vapor-tight.

If you implement an LDAR program for your OLD equipment, you would have to provide us with written specifications of the program as part of your initial compliance demonstration.

F. What Would Be the Continuous Compliance Provisions?

To demonstrate continuous compliance with the emission limitation for control devices controlling storage tanks or transfer racks, you would have to continuously monitor the appropriate operating parameter and keep a record of the monitoring data. Compliance would be demonstrated by maintaining the parameter value within the limits established during the initial compliance demonstration.

There are different proposed means of demonstrating continuous compliance with the work practice standards, depending on the emission source. For floating roof storage tanks, you would have to visually inspect the tanks on a periodic basis and keep records of the inspections. For external floating roof tanks, seal gap measurements must be performed on the secondary seal once per year and on the primary seal every 5 years. Any conditions causing inspection failures would need to be repaired and records of the repairs kept.

The owner or operator would need to perform vapor tightness testing on cargo tanks and keep vapor tightness records of all cargo tanks loading at regulated rack loading positions, and also would have to take steps to ensure that only cargo tanks with vapor tightness certification are loaded at these positions. Examples of these steps are contacting cargo tank owners to explain the vapor tightness requirements and posting reminder signs summarizing the requirements at the affected loading positions.

G. What Would Be the Notification, Recordkeeping, and Reporting Requirements?

The proposed OLD NESHAP would require you to keep records and file reports consistent with the notification, recordkeeping, and reporting requirements of the General Provisions of 40 CFR part 63, subpart A. Two basic types of reports would be required: initial notification and semiannual compliance reports. The initial notification report would apprise the regulatory authority of applicability for existing sources or of construction for new sources.

The initial compliance report would demonstrate that compliance had been achieved. This report would contain the results of the initial performance test, which include the determination of the reference operating parameter value or range and a list of the organic liquids and equipment subject to the standards. Subsequent compliance reports would describe any deviations of monitored parameters from reference values; failures to comply with the startup, shutdown, and malfunction plan (SSMP) for control devices; and results of LDAR monitoring and storage tank inspections. These reports are also used to notify the regulatory authority of any changes in the organic liquids handled or changes in the OLD equipment or operations.

Records required under the proposed standards would have to be kept for 5 years, with at least 2 of these years being on the facility premises. These records would include copies of all reports that you have submitted; an up-to-date record of your organic liquids and affected equipment; and a listing of all cargo tanks that transfer organic liquids at affected rack loading positions, including their vapor tightness certification. Monitoring data from control devices would have to be kept to ensure that operating limits are being maintained. Records from the LDAR program and storage vessel inspections, and records of startups, shutdowns, and malfunctions of each control device are needed to ensure that the controls in place are continuing to be effective.

III. Rationale for Selecting the Proposed Standards

A. How Did We Select the Source Category?

Organic liquids distribution operations were included as a source category on our initial list of HAP source categories. Since liquid distribution is often carried out at SOCMI, refinery, or other manufacturing plant sites, there is the potential for overlapping control requirements in those cases where OLD activities are already regulated by other NESHAP. To avoid the situation where an emission source could be subject to multiple NESHAP, we are defining the OLD source category to exclude emission sources already covered by other NESHAP from control under these proposed standards.

The proposed Organic Liquids Distribution (non-Gasoline) NESHAP would apply to organic liquids distribution activities at sites that are determined to be “major sources” as defined in section 112(a)(1) of the CAA. This means those plants or facilities where the stationary sources located within a contiguous area and under common control emit or have the potential to emit, considering controls, a total of 10 tpy or more of any single HAP or 25 tpy or more of any combination of HAP.

Under the EPA's 1995 Potential to Emit Transition Policy, State and local air regulators have the option of treating the following types of sources as nonmajor under section 112 and permit programs under title V of the CAA: (1) sources that maintain adequate records to demonstrate that their actual emissions are less than 50 percent of the applicable major source threshold and have continued to operate at less than 50 percent of the threshold since January 1994; and (2) sources with actual emissions between 50 and 100 percent of the threshold, but which hold State-enforceable limits that are enforceable as a practical matter. During the EPA's rulemaking related to the potential to emit (PTE) requirements in the General Provisions (40 CFR part 63, subpart A) and the title V operating permits program, we have issued three extensions to the original transition policy, the latest memorandum dated December 20, 1999 and entitled, “Third Extension of January 25, 1995 Potential to Emit Transition Policy.” Sources that comply with either of the two criteria listed above will not be considered a major source under the OLD NESHAP. However, sources will be required to comply with the applicable provisions of the final PTE rule as of the effective date of that rule.

Organic liquids distribution operations that do not meet the criteria for a major source under the PTE transition policy are not being regulated at this time. We may consider area sources for regulation at a future date as part of the area source strategy authorized under section 112(k) of the CAA.

The source category covered by the proposed standards is not a single established “industry” in the usual sense, but involves a number of traditional industry segments. The purpose of the proposed standards is to enact controls on major source OLD operations wherever they occur, and this includes a variety of traditional industries. While these industry segments are distinct from one another (for example, they are described by several different SIC/NAICS codes), they are related to each other because they handle similar types of liquids which are inputs or outputs of the other segments. As an example, a particular organic liquids produced by a chemical manufacturing facility may be handled by a for-hire storage terminal, and then enter another manufacturing plant to be used in the making of a product.

We believe the OLD source category is best explained through a description of the organic liquids and distribution activities that are affected, and the types of facilities where the OLD activities occur.

The organic liquids affected by the proposed standards are those liquids that contain 5 percent by weight or more of the 69 organic HAP listed in Table 1 of the proposed subpart. These liquids include pure HAP chemicals (straight toluene, for example), petroleum liquids, and many blended mixtures and solutions of organic HAP chemicals that are stored and transported in bulk throughout the economy. The proposed rule would also affect all crude oil, with the exception of black oil, that has undergone custody transfer out of production facilities, even though individual crudes may have a total HAP content either above or below 5 percent by weight. Note that gasoline (including aviation gasoline) distribution is excluded from the proposed OLD NESHAP because these operations are already covered by the Gasoline Distribution NESHAP, 40 CFR part 63, subpart R.

The OLD activities and equipment that would be subject to the proposed control requirements are: (a) Storage of organic liquids in stationary storage tanks; (b) organic liquids transfer into cargo tanks (tank trucks or railcars) at transfer racks; and (c) the equipment components used in organic liquids transfer activities (pumps, valves, and sampling connection systems). Note that distribution under the proposed standards consists of those activities involved in storing organic liquids and transferring them either onto or off a major source plant site.

Organic liquids distribution is carried out at three primary categories of operations. First is the stand-alone bulk terminal, which typically receives, stores, and sends out liquids owned by other companies (“for-hire” facilities). These facilities are not collocated with a manufacturing site and will be affected if they meet the major source criteria based on their OLD activities. Some chemical companies own stand-alone terminals to distribute their own liquids, and they may also lease storage space at these terminals to other companies. The second category consists of OLD operations that are contiguous and under common control with a manufacturing (e.g., SOCMI facility or petroleum refinery) plant site. The OLD operations that satisfy the annual throughput cutoff at plant sites that constitute a major source of HAP will be subject to the proposed standards. There may also be additional types of manufacturing facilities that have affected OLD operations. The third facility type is pipeline stations, typically handling crude oil, that have breakout storage tanks used to absorb surges in the pipeline flow or to serve as distribution points for other modes (marine vessels, etc.) outside of the pipeline.

Section 112(d)(1) of the CAA requires us to promulgate NESHAP for “each category or subcategory of major sources and area sources of hazardous air pollutants listed for regulation * * *” Subcategorization of a source category is sometimes appropriate for NESHAP when industrial segments within the category have different types of processes or emission characteristics or require the use of different types of control techniques. As we developed the proposed OLD NESHAP, we considered whether we should develop different control requirements for the various OLD industry segments.

A review of the OLD data base and the information gathered during our site visits to OLD facilities showed that, despite the extreme operating conditions that occur in the process units at SOCMI facilities and refineries, the liquid distribution operations at the various types of facilities are carried out under conditions at or close to ambient. Furthermore, common organic HAP control technologies (such as thermal oxidizers and flares) are applicable to and in use for the activities performed at all of the facility types. Thus, based on these factors, we concluded that designation of separate subcategories for the purpose of developing different emission standards in the OLD NESHAP was not warranted.

B. How Did We Select the Proposed Pollutants To Be Regulated?

The data base of results from our 1998 survey of OLD operations indicates the presence of about 93 different HAP in all of the reported liquids, which is most of the organic compounds or groups of compounds listed as HAP under section 112(b) of the CAA. The variety of HAP is so large because the OLD industry represents the sum total of the chemical and petroleum liquids handled throughout industry (except gasoline). Yet, there may be additional organic HAP in liquids that are not in the EPA's OLD data base.

We considered whether it would be reasonable to select all organic HAP listed under section 112(b) for regulation in the OLD NESHAP. Some organic HAP have a very low potential to be emitted to the atmosphere from OLD operations because of their low volatilities (vapor pressure value). We do not consider it reasonable for facilities that may have a significant part of their OLD operations dedicated to handling low-volatility HAP liquids to apply controls representing MACT to those activities.

As a result, we decided it would be appropriate to develop a list of the specific organic HAP to be regulated by the proposed standards. We first made a listing of all of the HAP believed to exist in OLD operations, ranked in order of decreasing vapor pressure (at 25 degrees C). We then selected a vapor pressure cutoff of 0.1 pound per square inch absolute (psia) (about 0.7 kilopascal) to exclude the compounds with the lowest volatilities from the bottom of the table. This cutoff point was selected and was agreed to by industry reviewers as a reasonable level below which the emission potential would be minimal. The 0.7 kilopascal vapor pressure cutoff is recommended by the fact that the HON (in Table 6 of 40 CFR part 63, appendix to subpart G) requires the application of controls for new storage vessels with a capacity of 151 cubic meters or greater and storing liquids with a vapor pressure of 0.7 kilopascal or greater. The proposed applicability cutoffs for OLD storage tanks are similar to the cutoffs in the HON (for example, new OLD tanks larger than 151 cubic meters storing any liquid with a vapor pressure greater than 0.7 kilopascal would be covered). If we choose a cutoff higher than 0.7 kilopascal, which would leave even fewer HAP subject to control, there would be an inconsistency between the HAP table and the proposed storage tank applicability cutoffs. Therefore, on the basis of these considerations, we used a cutoff of 0.7 kilopascal to derive the specific organic HAP listed in Table 1 of the proposed standards.

The proposed standards would affect OLD activities involving two categories of organic liquids: (1) Those liquids containing at least 5 percent by weight of the HAP listed in Table 1 of the proposed subpart; and (2) all crude oils except black oil. As with the 0.7 kilopascal cutoff used to determine which HAP would be in Table 1, the intent of the 5 percent HAP cutoff is to exclude the lowest emitting organic liquids from the control requirements. The 5 percent HAP cutoff also has precedent in existing part 63 subparts. In the HON, 40 CFR part 63, subpart H and the NESHAP for Polycarbonate Production (40 CFR 63.1103(d), subpart YY), the equipment leak provisions affect only equipment containing or contacting a fluid that is at least 5 percent by weight of total organic HAP, on an annual average basis.

Our analysis of 17 different crude oil profiles indicated an average HAP weight percentage in the emitted vapors of about 6.0 percent. However, about half of these samples had a HAP percentage below 5 percent. Under the 5 percent HAP cutoff defining a regulated organic liquid, this would exempt from control a large amount of the crude oil as it enters and leaves distribution facilities.

Despite its relatively low HAP content, crude oil had a significant vapor pressure that was as high as 8 psia and averaged about 3.5 psia for all of the profile data we examined. Also, crude oil is estimated to make up approximately 68 percent of the volume of organic liquids in the distribution system, and 84 percent of the volume for liquids with a HAP content below 10 percent. Since the potential emissions from crude oil are a significant fraction of the total OLD emissions, we believe that the potential reductions from controlling crude oil would be significant and are a compelling reason to regulate all distributed crude oil except for the specific variety discussed below.

Black oil is a form of crude oil that we determined in the final NESHAP for Oil and Gas Production, 40 CFR part 63, subpart HH, to have a very low potential to produce flash emissions from storage tanks. Furthermore, tanks containing black oil are not considered to be affected sources under subpart HH. We are including a similar exemption for black oil in the OLD NESHAP because we do not consider storage or transfer of black oil to constitute a significant emission source. The definition of black oil is being altered from that used in subpart HH. In subpart HH it is the “initial producing” gas-to-oil ratio and API (American Petroleum Institute) gravity that are used to define some crude oils as black oil. For this proposed subpart, we are using the gas-to-oil ratio and API gravity of the crude oil at the point of entry to the distribution system to define the crude oil as black oil.

C. How Did We Select the Proposed Affected Source?

The affected source would be the combination of all regulated emission sources at an OLD operations facility. The regulated emission sources at an OLD operations facility are:

• Storage tanks;

• Transfer racks; and

• Equipment in organic liquids service.

We have chosen a broad source definition which allows a storage tank, transfer rack, or single piece of equipment to be replaced or upgraded without its replacement being designated as a new source. The broad source definition was chosen for this source category because a more narrow source definition would mean that a change to an individual regulated emission source at a facility could cause that individual emission source to be designated as new. The designation as new would mean that the individual emission source (such as a single storage tank) would be required to observe the emission or operating limits in the proposed subpart for new sources. It also means that the emission source would need to be permitted separately, and its recordkeeping and reporting requirements could fall on intervals different from the rest of the facility. We looked at the emissions reductions that could possibly be gained through a narrow definition of affected source and decided that, on balance, a broad definition is the better choice.

D. How Did We Determine the Basis and Level of the Proposed Standards for Existing and New Sources?

1. MACT Floor Determination

We determined separate MACT floors for each of the emission sources that exist at OLD operations. We received data through questionnaire responses from 247 facilities owned or operated by 77 companies. These facilities reflected the various major industry segments involved in organic liquids distribution. However, due to the pervasive nature of distribution operations throughout the economy, we believe that our survey only captured about 40 percent of all of the large OLD operations in the country. Additional detailed information was obtained from site visits to nine OLD facilities. The data collected represent a complete range of the large facilities that would be affected by the proposed standard. Therefore, we believe the data are representative of OLD operations throughout the country.

We determined MACT floors for existing sources based on the arithmetic average of the lowest-emitting 12 percent where this approach made sense and produced a result that corresponded to use of a specific control technology. For the remaining cases, we used the median (middle) value to represent the MACT floor. For storage tanks and transfer racks, floors were determined for each subgroup (size and vapor pressure range for tanks, vapor pressure range for loading positions). For the several storage tank subgroups with fewer than 30 sources, we used the median of the five lowest-emitting tanks (the third tank).

Using the storage tank data collected from OLD operations, we determined the relative emissions from 1,175 reported tanks and listed these tanks from lowest to highest emitting within several tank size and liquid vapor pressure ranges. For transfer racks, we listed individual loading positions from lowest to highest emitting, starting with those with a control device, followed by those using bottom or submerged loading, and finally those using splash fill (considered the baseline, uncontrolled case). For equipment leaks, the facilities with a Federal LDAR program were listed first, followed by those with a State or local program, and then those with no program.

The best controlled storage tanks at OLD facilities in our data base use either a closed vent system and control device or a well-designed internal or external floating roof. These controls represent the maximum level of control available for storage tanks. The existing source MACT floor for tanks was determined to be a choice of control device or a floating roof with effective emission seals. The specific tank sizes and organic liquids to which the MACT floor applies are essentially the same as those in the HON.

The best controlled transfer racks at the OLD operations facilities in our survey data base are equipped with a vapor collection system and control device to reduce organic HAP emissions. Control efficiencies for these devices were reported as ranging from below 90 percent to over 99 percent, but no test data were provided to support these control efficiencies. The MACT floor for existing transfer racks was determined to be the use of a control device, without identifying any specific control efficiencies that constitute the floor. However, based on the types of devices in use and the liquids being controlled, we believe that a control efficiency of 95 percent is appropriate for this floor.

The best controlled OLD equipment is subject to an instrument-based LDAR program, and we found that an LDAR program similar to the HON program represents the existing source MACT floor.

For new sources, the CAA requires the MACT floor to be based on the degree of emissions reductions achieved in practice by the best-controlled similar source. The MACT floor for new sources and existing sources is the same in the case of transfer racks (use of a control device) and equipment leaks (an instrument LDAR program). For storage tanks, the control technologies in the MACT floors for existing and new sources are also the same. However, in the new source floor, these controls are applied to smaller tanks and to less volatile liquids when they are stored in larger tanks.

A more detailed summary of the MACT floor analysis, including the data and the considerations used to determine the MACT floors for OLD operations, can be found in the technical support document located in the docket.

2. Beyond-the-Floor Levels of Control

Using the MACT floor levels as a starting point, we investigated whether any applicable control approaches were available that were both more stringent than these floors and satisfied the criteria in section 112(d)(2) of the CAA.

The MACT floors for existing and new organic liquids storage tanks consist of a choice between the emission limitation in the HON (closed vent system and control device at 95 percent efficiency) and the floating roof requirements in 40 CFR part 63, subpart WW. These controls represent the maximum level of control available for storage tanks. The tank capacity and liquid vapor pressure cutoffs defining which tanks would be affected are the same as those in the HON. We believe that these cutoffs define all of the storage tanks that it is reasonable to regulate with MACT technology. Therefore, we were not able to identify any reasonable technologies that would create beyond-the-floor control levels for storage tanks.

The best controlled organic liquids transfer racks achieve emissions reductions of 95 percent or greater using a closed vent system and control device. Due to the diversity of liquids handled in the industry and the consequent use of a variety of control devices, we concluded that levels above 95 percent should not be considered as an alternative control level for transfer racks. Therefore, no beyond-the-floor control levels were deemed achievable for this emission source.

The best controlled OLD equipment is subject to an instrument-based LDAR program, and we found that an LDAR program similar to the HON program represents both the existing and new source MACT floors. We have not identified any beyond-the-floor control approaches that provide better control of leakage emissions from equipment at a reasonable cost.

3. Selection of the Standards

Some OLD operations may involve very low organic liquids throughputs because they operate intermittently, but they would still be defined as a major source if they are on the same plant site as a major source manufacturing operation. We desired a small size cutoff to exempt OLD operations with a very small amount of distribution activity. The survey data did not indicate any specific organic liquids throughput into or out of a facility that would help us in identifying a lower size threshold for the size of OLD operations facility that should be affected by the proposed standards. Therefore, we turned to existing Federal and State organic liquids transfer rules. The cutoff value of 20,000 gallons per day is frequently used to identify affected transfer facilities. This value converts to 27.6 million liters per year, the smallest size facility we are proposing to affect by these standards. This is a reasonable approach as facilities below this size cutoff do not have the volume of organic liquids throughput that would yield emissions warranting control, as identified by other Federal and State rules. If the throughputs into and out of the facility during a calendar year are different, then the larger of the two values would be used to determine whether the operation is affected by these proposed standards.

The proposed standards were selected following the completion of the MACT floor and beyond-the-floor analyses. After we determined that there were no reasonable control measures more stringent than the MACT floors, we used the floors as the basis for the selection of the standards. While some of our survey responses appeared to indicate control levels beyond the levels normally associated with these devices (i.e., many reports at or near 100 percent efficiency), we believed that these values did not represent the continuous performance of the control devices in use. Also, these high efficiency values were not supported by test data. Therefore, a control efficiency of 95 percent is being proposed for control devices used for storage tanks or transfer racks. To be consistent with the results from the test methods allowed for showing compliance, this control efficiency can be demonstrated in terms of either total organic HAP or TOC. In addition, combustion devices have an optional emission limit of 20 ppmv of organic HAP or TOC in the exhaust.

Some transfer racks at OLD facilities are used only on a periodic or intermittent basis and, therefore, have relatively low volume throughputs and low emissions. We do not believe it would be reasonable to install a control system on such low usage racks. However, the survey data did not indicate any specific throughput level below which transfer rack emission controls were not being used in OLD operations.

As the survey data could not provide direction on a throughput cutoff, we searched existing Federal and State air rules to evaluate the cutoffs in use. The provisions of 40 CFR 63.1101, subpart YY (Generic MACT Standards), define a low throughput transfer rack as a rack that transfers less than 11.8 million liters (3.12 million gallons) per year of liquid containing regulated HAP. This cutoff is equivalent to about one tank truck full of liquid per day. No additional cutoffs affecting individual transfer racks were identified. The cutoff used in subpart YY was considered reasonable for the OLD transfer rack control requirement, and, therefore, we are proposing to regulate only those transfer rack positions that load 11.8 million liters per year or more of organic liquid.

A transfer rack may have more than one loading position (i.e., “parking spot”) for cargo tanks. Since each loading position may receive liquid from a specific storage tank independently of the other positions, each position can be considered an individual emission source during the time that a cargo tank is in place and loading liquid. Therefore, we are proposing to apply both the emission limit and throughput cutoff to each individual loading position. Under this approach, owners and operators would have maximum flexibility in determining the optimum configuration for their loading activities.

At controlled transfer racks (those equipped with a vapor collection system and a control device), fugitive emissions may occur from leaking truck transport tanks or railcars through dome covers, malfunctioning pressure relief vents, or other potential leak sources. Thus, a requirement to control liquid transfer operations using a vapor collection system and control device could be ineffective if the cargo tanks leak vapors to the atmosphere during the loading process. For cargo tanks equipped with vapor collection equipment (which typically includes an integrated vapor valve that is opened to release vapors to the control system during loading), EPA Method 27 in 40 CFR part 60, appendix A, is specified for ensuring the tank's vapor tightness. Tank trucks used for gasoline distribution are routinely equipped for vapor collection and undergo an annual Method 27 test under the NESHAP regulating gasoline distribution. However, tank trucks in organic chemical service typically are not equipped for vapor collection. For these tanks, Method 27 would not be applicable. Instead, the current DOT methods which require periodic leak testing of chemical tank trucks and railcars are in place and effective for organic liquids cargo tanks.

E. How Did We Select the Format of the Proposed Standards?

The format selected for the proposed standards was developed after a comprehensive review of Federal and State rules affecting the same emission sources that occur in similar industries. Our goal was to set an overall format that is compatible with the applicable test methods, reflects the performance of the MACT technologies, and is consistent with the formats used in other NESHAP for similar HAP sources.

The proposed standards for OLD operations consist of a combination of several formats: numerical emission limits and operating limits, equipment standards, and work practice standards. Section 112(h) of the CAA states that “* * * if it is not feasible in the judgment of the Administrator to prescribe or enforce an emission standard for control of a hazardous air pollutant or pollutants, the Administrator may, in lieu thereof, promulgate a design, equipment, work practice, or operational standard, or combination thereof * * *.” Section 112(h) further defines the phrase “not feasible to prescribe or enforce an emission standard” as any situation in which “* * * a hazardous air pollutant or pollutants cannot be emitted through a conveyance designed and constructed to emit or capture such pollutant, * * * or the application of measurement methodology to a particular class of sources is not practicable * * *.”

Numerical emission limits are feasible for storage tanks and transfer racks outfitted with a closed vent system and a control device. For these control situations, we have proposed a percentage control efficiency for consistency with the HON and the Refinery NESHAP, which taken together, regulate a great number of the organic liquids handled in OLD operations. To allow flexibility, we are proposing a 95 percent control efficiency limit in terms of either total organic HAP or TOC. For combustion devices, we are proposing an alternate emission limit of 20 ppmv of either organic HAP or TOC. Depending on the test methods chosen, the owner or operator would select the most suitable format.

The proposed 95 percent and 20 ppmv limits apply not to entire transfer racks but to each individual loading position at the racks. We felt that under this format, sources would have more freedom in choosing how to organize the transfer of affected organic liquids. For example, at a rack with two loading positions you might designate and configure one position to be an uncontrolled position, and another position to be a controlled position piped through a vapor collection system to a control device. You could then load affected organic liquids only at the controlled position but could still load unregulated liquids through the same rack at the uncontrolled position.

Equipment and work practice standards affect each of the emission sources being regulated. The following subparagraphs describe the selection of these formats.

Floating Roof Standard for Storage Tanks

You would have the option of installing floating roofs that meet the requirements of 40 CFR part 63, subpart WW, in your affected storage tanks. The floating roof option has been included in most Federal rules affecting storage tanks. Our goal was to be consistent with these other rules and to provide you with flexibility in controlling the storage tanks that contain affected organic liquids.

Vapor Tightness Testing for Cargo Tanks

For the closed vent (vapor collection) system on transfer racks to be effective in conveying all of the displaced HAP vapors to the control device, the cargo tanks must be maintained in a way that minimizes leakage. There is no means available for collecting or measuring these leakage emissions. Therefore, we have proposed a work practice standard consisting of an annual vapor tightness test which involves pressurizing the empty tank and measuring any loss of pressure. The same approach is used for cargo tanks in two of the Federal rules that affect gasoline distribution, the new source performance standards (NSPS) for bulk gasoline terminals (40 CFR part 60, subpart XX), and the Gasoline Distribution NESHAP (40 CFR part 63, subpart R).

Leak Detection and Repair Program for Equipment

The LDAR program has been used for many years as the principal means of locating leaking equipment for repairs to maintain low emission rates on equipment components. In surveying OLD operations nationwide, we found that about 35 percent of the facilities are under a Federal LDAR requirement. Therefore, we decided that this format would be the best approach for the equipment requirements. Owners and operators would have the choice between the LDAR requirements in 40 CFR part 63, subpart TT or UU.

F. How Did We Select the Proposed Testing and Initial Compliance Requirements?

These NESHAP propose to control three different emission points: Storage tanks, transfer racks, and equipment leaks. The control technologies and work practices used to control these emission points would have different testing and initial compliance requirements. The methods proposed for testing and for demonstrating initial compliance with the proposed standards are similar to those in other Federal NESHAP using these same control technologies and work practices. The HON (40 CFR part 63, subpart G) prescribes EPA Method 18 or 25A for determining the control efficiency of a control device. We have added EPA Method 25 to allow additional flexibility. In addition, if a principal component of the inlet gas stream to the control device is formaldehyde, EPA Method 316 of 40 CFR part 63, appendix A, may be used instead of Method 18 to measure the formaldehyde.

The HON also specifies EPA Method 21 for performing LDAR monitoring. The visual and seal gap inspections proposed for determining the initial compliance of floating roof tanks are the methods outlined in subpart WW of 40 CFR part 63. The EPA Method 27 is the method proposed for confirming the vapor tightness of tank trucks and railcars equipped with vapor collection equipment. This is the same approach required for testing cargo tanks in 40 CFR part 63, subpart R, the Gasoline Distribution NESHAP. We have determined while developing other part 63 rules that these methods are appropriate for fulfilling the testing and initial compliance requirements in standards for HAP emissions.

G. How Did We Select the Proposed Continuous Compliance Requirements?

Continuous monitoring is required by the proposed standards so that we can determine whether a source is in compliance on an ongoing basis. When determining appropriate monitoring options, we considered the availability and feasibility of a number of monitoring strategies.

In evaluating the use of continuous emission monitoring systems (CEMS) in these proposed standards, we determined that monitoring of HAP compounds emitted from control devices is feasible and has been implemented in other rules at certain types of facilities. However, the cost of applying monitors that provide a continuous measurement in the units of these proposed standards would be unacceptably high. Similarly, we found that continuous monitoring of a HAP surrogate (such as TOC) would not provide an accurate indication of compliance with the proposed HAP emission limitations because of the many non-HAP organic compounds.

Monitoring of control device operating parameters is considered appropriate for many other emission sources (such as gasoline distribution sources under 40 CFR part 63, subpart R) and, therefore, we have included this as the primary monitoring approach in these proposed standards. Based on information from OLD sources, we selected operating parameters for the following types of control devices that are reliable indicators of control device performance: Thermal and catalytic oxidizers, flares, adsorbers, and condensers. In general, we selected parameters and monitoring provisions that were included in both subpart R and the HON. Sources would monitor these parameters to demonstrate continuous compliance with the emission limits and operating limits.

The proposed NESHAP also requires monitoring for the storage tank work practice standards which consist of periodic inspections of the floating roof seals. We took this approach because there is no device available to continuously monitor the performance of the roof seals.

You may choose an alternative to the monitoring required by these proposed standards. If you do, you would have to request approval for alternative monitoring according to the procedures in § 63.8 of the General Provisions.

H. How Did We Select the Proposed Notification, Recordkeeping, and Reporting Requirements?

The required notifications and other reporting are based on the General Provisions in subpart A of 40 CFR part 63. The initial notification and the semiannual compliance reports include information on organic liquids and affected OLD activities, and they would require any changes to this information to be reported in subsequent reports. Similarly, records would be required that will enable an inspector to verify the facility's compliance status. Due to the nature of control devices that would be installed on OLD operations and the emissions being controlled, we have determined that control device parameter monitoring is appropriate in this circumstance. The proposed records and reports are necessary to allow the regulatory authority to verify that the source is continuing to comply with the standards.

IV. Summary of Environmental, Energy, and Economic Impacts

As discussed earlier, organic liquids distribution activities are carried out at many different types of facilities. Most of these facilities can be grouped under three general categories: Stand-alone (usually for-hire) storage terminals dedicated to distribution activities; OLD operations collocated with a petroleum refinery, chemical manufacturing, or other manufacturing plant site; and crude oil pipeline pumping or breakout stations (containing crude oil tankage).

We estimate that in 1997, the baseline year for the proposed standards, there were approximately the following numbers of major source OLD facilities: 480 collocated OLD operations, 135 stand-alone terminals, and 35 crude oil pipeline stations, for a total of about 650 existing major source OLD plant sites.

A. What Are the Air Quality Impacts?

On a nationwide basis, the OLD operations at facilities that would be affected by the proposed NESHAP emit an estimated 70,200 Mg/yr (77,300 tons/yr) of HAP. Most of the organic HAP listed in section 112(b)(1) of the CAA are included in these emissions. After the promulgated standards are implemented, HAP emissions will be reduced by approximately 19,700 Mg/yr (21,700 tpy), or 28 percent, from the baseline. Such emissions impacts are likely to reduce the risk of adverse effects of HAP.

Although the proposed OLD NESHAP would not specifically require control of VOC emissions, the organic HAP emission control technologies upon which the proposed standards are based would also significantly reduce VOC emissions from the source category. We estimate that implementation of the promulgated NESHAP would reduce nationwide VOC emissions by about 33,700 Mg/yr (37,100 tpy), or 28 percent, from baseline levels. This will have the effect of reducing ozone-related health and welfare impacts.

B. What Are the Cost Impacts?

The cost of implementing the proposed standards for affected OLD operations would consist of the capital and annualized costs to control storage tanks, transfer racks, and equipment leaks, and the costs of complying with the monitoring, reporting, and recordkeeping requirements.

Approximately 1,740 storage tanks, or 23 percent of the 7,725 tanks used in OLD operations, would need to be controlled (or further controlled) to meet the proposed control requirements. Depending on the size and configuration of a particular tank, the capital cost would vary from $4,300 to $120,000 per tank. The total capital cost to control all 1,740 tanks is estimated at $84.3 million.

Transfer rack controls would consist of installing a flare or other control device at approximately 200 OLD operations, at an estimated total capital cost of $5.4 million. Since organic liquids cargo tanks are typically not equipped with vapor collection equipment, most of them would continue to undergo the DOT leak tightness testing and not the annual EPA Method 27 testing. The total annual cost for performing Method 27 on the small number of equipped cargo tanks is estimated at about $21,700 per year.

The establishment of an LDAR program for equipment leak control at about 430 existing operations nationwide would involve a capital cost of approximately $3.5 million.

The annual cost for industry to keep records and prepare and send the necessary reports is estimated at about $12.7 million per year.

We have estimated the total nationwide capital cost (in 1997 dollars) of implementing the proposed rule at $94.4 million, and the annual cost at $41.4 million per year. We are soliciting comment from the public on the accuracy of the cost impacts that are summarized above and presented in detail in the TSD.

C. What Are the Economic Impacts?

The economic impact analysis shows that the expected price increase for affected output would be less than 0.01 percent as a result of the proposed standard for petroleum producers, pipeline operators, and petroleum bulk terminals, and less than 0.02 percent for chemical manufacturers. The expected change in production of affected output is a reduction of less than 0.01 percent for petroleum producers, pipeline operators, and petroleum bulk terminals, and less than 0.02 percent for chemical manufacturers. None of the facilities out of the 651 affected are expected to close as a result of incurring costs of the proposed standard. Therefore, it is likely that there is no adverse impact expected to occur for those industries that produce output affected by this proposed rule, such as chemical manufacturers, petroleum refineries, pipeline operators, and petroleum bulk terminal operators.

D. What Are the Nonair Quality Health, Environmental, and Energy Impacts?

Water quality would not be significantly affected by implementation of the proposed standards. The proposed standards do not contain any requirements related to water discharges, wastewater collection, or spill containment, and no additional organic liquids are expected to enter these areas as a result of the proposed OLD NESHAP. A few facilities may select a scrubber (depending on the specific emissions they are controlling) to control emissions from transfer racks or fixed-roof storage tanks. The impact on water quality from the use of scrubbers is not expected to be significant.

We also project that there will be no significant solid waste or noise impact. Neither flares, thermal oxidizers, scrubbers, nor condensers generate any solid waste as a by-product of their operation. When adsorption systems are used, the spent activated carbon or other adsorbent that cannot be further regenerated may be disposed of in a landfill, which would contribute a small amount of solid waste.

We have tested the noise level from control devices and found these levels (usually due to pumps and blowers) to be moderate (less than 70 decibels at 7 meters). Thus, the noise impact would be small.

The control devices used for transfer rack and storage tank control use electric motor-driven blowers, dampers, or pumps, depending on the type of system, in addition to electronic control and monitoring systems. The installation of these devices would have a small negative energy impact. To the extent that some of the controlled organic liquids are non-gasoline fuels, the applied control measures would keep these liquids in the distribution system and thus have a positive impact on this form of energy.

V. Administrative Requirements

A. Executive Order 12866, Regulatory Planning and Review

Under Executive Order 12866 (58 FR 51735, October 4, 1993), the EPA must determine whether the regulatory action is “significant” and, therefore, subject to review by the Office of Management and Budget (OMB) and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligations of recipients thereof; or

(4) Raise novel legal or policy issues arising out of legal mandates, the President's priorities, or the principles set forth in the Executive Order.

Pursuant to the terms of Executive Order 12866, OMB has notified EPA that it considers this a “significant regulatory action” within the meaning of the Executive Order. EPA has submitted this action to OMB for review. Changes made in response to OMB suggestions or recommendations will be documented in the public record. Any written comments from OMB and written EPA responses are available in the docket (see ADDRESSES section of this preamble).

B. Executive Order 13132, Federalism

Executive Order 13132, entitled “Federalism” (64 FR 43255, August 10, 1999), requires the EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under Section 6 of Executive Order 13132, the EPA may not issue a regulation that has federalism implications, that imposes substantial direct compliance costs, and that is not required by statute, unless the Federal government provides the funds necessary to pay the direct compliance costs incurred by State and local governments, or the EPA consults with State and local officials early in the process of developing the proposed regulation. The EPA also may not issue a regulation that has federalism implications and that preempts State law unless the EPA consults with State and local officials early in the process of developing the proposed regulation.

This proposed rule does not have federalism implications. It will not have substantial direct effects on the States, on the relationship between the national government and the States, or on the distribution of power and responsibilities among the various levels of government, as specified in Executive Order 13132. Thus, the requirements of section 6 of the Executive Order do not apply to this proposed rule.

C. Executive Order 13175, Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This proposed rule does not have tribal implications. It will not have substantial direct effects on tribal governments, on the relationship between the Federal government and Indian tribes, or on the distribution of power and responsibilities between the Federal government and Indian tribes, as specified in Executive Order 13175. No tribal governments are believed to own or operate an affected source. Thus, Executive Order 13175 does not apply to this rule. In the spirit of Executive Order 13175, and consistent with EPA policy to promote communications between EPA and tribal governments, EPA specifically solicits additional comment on this proposed rule from tribal officials.

D. Executive Order 13045, Protection of Children From Environmental Health Risks and Safety Risks

Executive Order 13045 (62 FR 19885, April 23, 1997) applies to any rule that: (1) Is determined to be “economically significant” as defined under Executive Order 12866, and (2) concerns an environmental health or safety risk that the EPA has reason to believe may have a disproportionate effect on children. If the regulatory action meets both criteria, the EPA must evaluate the environmental health or safety effects of the planned rule on children, and explain why the planned regulation is preferable to other potentially effective and reasonably feasible alternatives considered by the EPA.

The EPA interprets Executive Order 13045 as applying only to those regulatory actions that are based on health or safety risks, such that the analysis required under section 5-501 of the Executive Order has the potential to influence the regulation. This proposed rule is not subject to Executive Order 13045 because it is based on technology performance and not on health or safety risks. No children's risk analysis was performed because no alternative technologies exist that would provide greater stringency at a reasonable cost. Furthermore, this proposed rule has been determined not to be “economically significant” as defined under Executive Order 12866.

E. Executive Order 13211, Actions Concerning Regulations That Significantly Affect Energy Supply, Distribution, or Use

Executive Order 13211, “Actions Concerning Regulations That Significantly Affect Energy Supply, Distribution, or Use” (66 FR 28355, May 22, 2001), required EPA to prepare and submit a Statement of Energy Effects to the Administrator of the Office of Information and Regulatory Affairs, and the Office of Management and Budget, for certain actions identified as “significant energy actions.” Section 4(b) of Executive Order 13211 defines “significant energy actions” as “any action by an agency (normally published in the Federal Register) that promulgates or is expected to lead to the promulgation of a final rule or regulation, including notices of inquiry, advance notices of proposed rulemaking, and notices of proposed rulemaking: (1) (i) That is a significant regulatory action under Executive Order 12866 or any successor order, and (ii) is likely to have a significant adverse effect on the supply, distribution, or use of energy; or (2) that is designated by the Administrator of the Office of Information and Regulatory Affairs as a significant energy action.” This proposed rule is not a “significant energy action” because it is not likely to have a significant adverse effect on the supply, distribution, and use of energy. The basis for this determination follows.

The reduction in petroleum product output, which includes reductions in fuel production, is estimated at only 0.003 percent, or about 137 barrels per day based on 2000 U.S. fuel production nationwide. The reduction in coal, natural gas, and electricity output is expected to be negligible compared to 2000 U.S. output of these products nationwide. The increase in price of petroleum products is estimated to be only 0.003 percent nationwide. While energy distribution services such as pipeline operations will be directly affected by this proposal, energy distribution costs are expected to increase by only 0.36 percent. We estimate that there will be a slight increase of only 0.002 percent of net imports (imports—exports), and no other adverse outcomes are expected to occur with regard to energy supplies. Given the minimal impacts on energy supply, distribution, and use as a whole nationally, no significant adverse energy effects are expected to occur. For more information on these estimated energy effects, please refer to the economic impact analysis for the proposed rule. This analysis is available in the public docket.

Therefore, we conclude that this proposed rule when implemented will not have a significant adverse effect on the supply, distribution, or use of energy.

F. Unfunded Mandates Reform Act of 1995

Title II of the Unfunded Mandates Reform Act of 1995 (UMRA), Public Law 104-4, establishes requirements for Federal agencies to assess the effects of their regulatory actions on State, local, and tribal governments and the private sector. Under section 202 of the UMRA, the EPA generally must prepare a written statement, including a cost-benefit analysis, for proposed and final rules with “Federal mandates” that may result in expenditures by State, local, and tribal governments, in aggregate, or by the private sector, of $100 million or more in any 1 year. Before promulgating an EPA rule for which a written statement is needed, section 205 of the UMRA generally requires the EPA to identify and consider a reasonable number of regulatory alternatives and adopt the least costly, most cost-effective, or least burdensome alternative that achieves the objectives of the rule. The provisions of section 205 do not apply when they are inconsistent with applicable law. Moreover, section 205 allows the EPA to adopt an alternative other than the least costly, most cost-effective, or least burdensome alternative if the Administrator publishes with the final rule an explanation of why that alternative was not adopted. Before the EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that this proposed rule does not contain a Federal mandate that may result in expenditures of $100 million or more for State, local, and tribal governments, in the aggregate, or the private sector in any 1 year. The maximum total annual cost of this proposed rule for any year has been estimated to be about $41.4 million. Thus, today's proposed rule is not subject to the requirements of sections 202 and 205 of the UMRA. In addition, the EPA has determined that this proposed rule contains no regulatory requirements that might significantly or uniquely affect small governments because it contains no requirements that apply to such governments or impose obligations upon them. Therefore, today's proposed rule is not subject to the requirements of section 203 of the UMRA.

G. Regulatory Flexibility Act (RFA) as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's proposed rule on small entities, small entity is defined as: (1) A small business whose parent company has fewer than 100 or 1,500 employees, depending on size definition for the affected North American Industry Classification System (NAICS) code, or a maximum of $5 million to $18.5 million in revenues; (2) a small governmental jurisdiction that is a government of a city, county, town, school district or special district with a population of less than 50,000; and (3) a small organization that is any not-for-profit enterprise which is independently owned and operated and is not dominant in its field. It should be noted that companies in 42 NAICS codes are affected by this proposed rule, and the small business definition applied to each industry by NAICS code is that listed in the Small Business Administration (SBA) size standards (13 CFR 121). For more information on size standards for particular industries, please refer to the economic impact analysis in the docket.

After considering the economic impacts of today's proposed rule on small entities, I certify that this action will not have a significant economic impact on a substantial number of small entities. We have determined that nineteen small firms in the industries affected by this rule may be affected. Out of the nineteen affected small firms, two firms are estimated to have compliance costs that exceed one percent of their revenues.

In addition, the rule is likely to also increase profits at the many small firms not affected by the rule due to the very slight increase in market prices. Finally, while there is a difference between the median compliance cost to sales estimates for the affected small and large firms (0.26 percent compared to 0.01 percent for the large firms), no small or large firms are expected to close in response to incurring the compliance costs associated with this rule.

Although this proposed rule will not have a significant economic impact on a substantial number of small entities, we nonetheless have tried to minimize the impact of this rule on small entities in several ways. First, we chose to set the control requirements at the MACT floor control level and not at a control level more stringent. Thus, the control level specified in the proposed OLD rule is the least stringent allowed by the CAA. Second, we have set facility size, transfer rack throughput, and tank size cutoffs in the rule to minimize the effects on small businesses. Third, we have identified a list of 69 HAP from the list of 188 in the CAA to be considered for regulation. Regulated liquids are organic liquids that contain at least 5 percent by weight of the 69 HAP listed. In addition, we worked with various trade associations during the development of the proposed rule. These actions have reduced the economic impact on small entities from this rule. We continue to be interested in the potential impacts of the proposed rule on small entities and welcome comments on issues related to such impacts.

H. Paperwork Reduction Act

We will submit the information collection requirements in this rule for approval to the Office of Management and Budget under the Paperwork Reduction Act, 44 U.S.C. 3501 et seq. We have prepared an Information Collection Request (ICR) document (ICR No. 1963.01) and you may obtain a copy from Sandy Farmer, Office of Environmental Information, Collection Strategies Division, U.S. Environmental Protection Agency (2822), 1200 Pennsylvania Avenue, NW, Washington, DC 20460, by e-mail at farmer.sandy@epa.gov, or by calling (202) 260-2740. A copy may also be downloaded off the internet (WWW) at http://www.epa.gov/icr. The information requirements are not effective until OMB approves them.

The information requirements are based on notification, recordkeeping, and reporting requirements in the NESHAP General Provisions (40 CFR part 63, subpart A), which are mandatory for all operators subject to national emission standards. These recordkeeping and reporting requirements are specifically authorized by section 114 of the CAA (42 U.S.C. 7414). All information submitted to the EPA pursuant to the recordkeeping and reporting requirements for which a claim of confidentiality is made is safeguarded according to EPA policies set forth in 40 CFR part 2, subpart B.

The proposed rule would require maintenance inspections of the control devices but would not require any notifications or reports beyond those required by the General Provisions. The recordkeeping requirements require only the specific information needed to determine compliance.

The annual monitoring, reporting, and recordkeeping burden to affected sources for this collection (averaged over the first 3 years after the effective date of the promulgated rule) is estimated to be 242,900 labor-hours per year, with a total annual cost of $12.7 million per year. These estimates include a one-time performance test and report (with repeat tests where needed), one-time submission of an SSMP with semiannual reports for any event when the procedures in the plan were not followed, semiannual compliance reports, maintenance inspections, notifications, and recordkeeping.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to, a collection of information unless it displays a currently valid OMB control number. The OMB control numbers for the EPA's regulations are listed in 40 CFR part 9 and 48 CFR chapter 15.

I. National Technology Transfer and Advancement Act

Under section 12(d) of the National Technology Transfer and Advancement Act of 1995 (NTTAA), Public Law 104-113, all Federal agencies are required to use voluntary consensus standards (VCS) in their regulatory and procurement activities unless to do so would be inconsistent with applicable law or otherwise impractical. Voluntary consensus standards are technical standards (e.g., materials specifications, test methods, sampling procedures, business practices) developed or adopted by one or more voluntary consensus bodies. The NTTAA requires Federal agencies to provide Congress, through annual reports to OMB, with explanations when an agency does not use available and applicable VCS.

Consistent with the NTTAA, the EPA conducted searches to identify VCS for use in emissions monitoring. This search is described in a memorandum which is in the docket. The search for emissions monitoring procedures identified 19 VCS that appeared to have possible use in lieu of EPA standard reference methods. However, after reviewing the available VCS, the EPA determined that nine of the candidate VCS identified for measuring emissions of the HAP or surrogates subject to emission standards in the proposed rule would not be practical due to lack of equivalency, documentation, and validation data. Ten of the remaining candidate VCS are under development or under EPA review. The EPA plans to follow, review, and consider adopting these VCS after their development and further review by the EPA is completed.

Two VCS, ASTM D2879-83, Standard Test Method for Vapor Pressure—Temperature Relationship and Initial Decomposition Temperature of Liquids by Isoteniscope; and API Publication 2517, Evaporative Loss from External Floating-Roof Tanks, Third Edition, February 1989, were already incorporated by reference in 40 CFR 63.14 and are also being used in this proposed rule.

The ASTM D6420-99 is currently under EPA review as an approved alternative to Method 18. The EPA will also compare this final ASTM standard to methods previously approved as alternatives to EPA Method 18 with specific applicability limitations. These methods, designated as ALT-017 and CTM-028, are available through the EPA's Emission Measurement Center internet site at www.epa.gov/ttn/emc/tmethods.html. The final ASTM D6420-99 standard is very similar to these approved alternative methods, which may be equally suitable for specific applications. We plan to continue our review of the final standard and will consider adopting the ASTM standard at a later date.

The EPA is requesting comment on the compliance demonstration requirements being proposed in this proposed rule and specifically invites the public to identify potentially-applicable VCS. Commenters should also explain why this proposed rule should adopt these VCS in lieu of the EPA's standards. Emission test methods and performance specifications submitted for evaluation should be accompanied by a basis for the recommendation, including method validation data and the procedure used to validate the candidate method (if a method other than Method 301, 40 CFR part 63, appendix A was used).

Section 63.2406 and Table 5 of the proposed subpart list the EPA testing methods and performance standards included in the proposed rule. Most of the standards have been used by States and industry for more than 10 years. Nevertheless, under § 63.7(f) of subpart A of 40 CFR part 63, the proposal also allows any State or source to apply to the EPA for permission to use an alternative method in place of any of the EPA testing methods or performance standards listed in proposed subpart EEEE.

List of Subjects in 40 CFR Part 63

Environmental protection, Administrative practice and procedure, Air pollution control, Hazardous substances, Intergovernmental relations, Reporting and recordkeeping requirements.

Dated: March 19, 2002.
Christine Todd Whitman,
Administrator.

For the reasons stated in the preamble, title 40, chapter I, part 63 of the Code of Federal Regulations is proposed to be amended as follows:

PART 63—[AMENDED]

1. The authority citation for part 63 continues to read as follows:

Authority: 42 U.S.C. 7401, et seq.

2. Section 63.14 is amended by revising paragraphs (b)(3) and (c)(1) to read as follows:

§ 63.14 Incorporation by reference.

* * * * *

(b) * * *

(3) ASTM D2879-83, Standard Test Method for Vapor Pressure-Temperature Relationship and Initial Decomposition Temperature of Liquids by Isoteniscope, IBR approved for § 63.111 of subpart G of this part and for § 63.2406 of subpart EEEE of this part.

(c) * * *

(1) API Publication 2517, Evaporative Loss from External Floating-Roof Tanks, Third Edition, February 1989, IBR approved for § 63.111 of subpart G of this part and for § 63.2406 of subpart EEEE of this part.

* * * * *

3. Part 63 is amended by adding subpart EEEE to read as follows:

Subpart EEEE—National Emission Standards for Hazardous Air Pollutants: Organic Liquids Distribution (non-Gasoline)

Sec.
What This Subpart Covers
63.2330 What is the purpose of this subpart?
63.2334 Am I subject to this subpart?
63.2338 What parts of my plant does this subpart cover?
63.2342 When do I have to comply with this subpart?
Emission Limitations and Work Practice Standards
63.2346 What emission limitations and work practice standards must I meet?
General Compliance Requirements
63.2350 What are my general requirements for complying with this subpart?
Testing and Initial Compliance Requirements
63.2354 By what date must I conduct performance tests or other initial compliance demonstrations?
63.2358 When must I conduct subsequent performance tests?
63.2362 What performance tests, design evaluations, and performance evaluations must I conduct?
63.2366 What are my monitoring installation, operation, and maintenance requirements?
63.2370 How do I demonstrate initial compliance with the emission limitations and work practice standards?
Continuous Compliance Requirements
63.2374 How do I monitor and collect data to demonstrate continuous compliance?
63.2378 How do I demonstrate continuous compliance with the emission limitations and work practice standards?
Notifications, Reports, and Records
63.2382 What notifications must I submit and when?
63.2386 What reports must I submit and when?
63.2390 What records must I keep?
63.2394 In what form and how long must I keep my records?
Other Requirements and Information
63.2398 What parts of the General Provisions apply to me?
63.2402 Who implements and enforces this subpart?
63.2406 What definitions apply to this subpart?
63.2407-.2429 [Reserved]
Tables to Subpart EEEE of Part 63
Table 1 to Subpart EEEE of Part 63—Organic Hazardous Air Pollutants
Table 2 to Subpart EEEE of Part 63—Emission Limits
Table 3 to Subpart EEEE of Part 63—Operating Limits
Table 4 to Subpart EEEE of Part 63—Work Practice Standards
Table 5 to Subpart EEEE of Part 63—Requirements for Performance Tests
Table 6 to Subpart EEEE of Part 63—Initial Compliance with Emission Limits
Table 7 to Subpart EEEE of Part 63—Initial Compliance with Work Practice Standards
Table 8 to Subpart EEEE of Part 63—Continuous Compliance with Emission Limits
Table 9 to Subpart EEEE of Part 63—Continuous Compliance with Operating Limits
Table 10 to Subpart EEEE of Part 63—Continuous Compliance with Work Practice Standards
Table 11 to Subpart EEEE of Part 63—Requirements for Reports
Table 12 to Subpart EEEE of Part 63—Applicability of General Provisions to Subpart EEEE

What This Subpart Covers

§ 63.2330 What is the purpose of this subpart?

This subpart establishes national emission limitations and work practice standards for hazardous air pollutants (HAP) emitted from organic liquids distribution (OLD)(non-gasoline) operations. This subpart also establishes requirements to demonstrate initial and continuous compliance with the emission limitations and work practice standards.

§ 63.2334 Am I subject to this subpart?

(a) You are subject to this subpart if you own or operate an OLD operation that is located at or is part of a major source of hazardous air pollutant emissions.

(b) Your OLD operation must have a total organic liquids throughput of 27.6 million liters (7.29 million gallons) per year or more either into or out of the operation to be subject to the control provisions of this subpart. Organic liquids are all crude oils other than black oil, and those liquids or liquid mixtures, except gasoline, that contain a total of 5 percent by weight or more of the organic HAP listed in Table 1 of this subpart.

(1) An OLD operation is the combination of activities and equipment used to transfer organic liquids into or out of a plant site or to store organic liquids on the plant site. Gasoline, as well as any fuels that are consumed or dispensed on the plant site directly to users (such as fuels used for fleet refueling) are not considered organic liquids in this subpart.

(2) A major source of HAP is a plant site that emits or has the potential to emit any single HAP at a rate of 9.07 megagrams (10 tons) or more per year, or any combination of HAP at a rate of 22.68 megagrams (25 tons) or more per year.

(c) This subpart covers:

(1) Organic liquids distribution operations that occupy an entire plant site; and

(2) Organic liquids distribution operations that are collocated with other industrial (e.g., manufacturing) operations at the same plant site.

§ 63.2338 What parts of my plant does this subpart cover?

(a) This subpart applies to each new, reconstructed, or existing OLD operation affected source.

(b)(1) The affected source is each entire OLD operation at a plant site in any industrial category, except for those emission sources that are controlled under the provisions of another 40 CFR part 63 national emission standards for hazardous air pollutants regulation. The main types of plant sites that either are in themselves an OLD operation or contain a collocated OLD operation are:

(i) Liquid terminal facilities that distribute either organic liquids that they own, or organic liquids owned by others on a for-hire basis, or a combination of both;

(ii) Organic chemical manufacturing facilities, petroleum refineries, and other industrial facilities that have a collocated OLD operation; and

(iii) Crude oil pipeline pumping stations and breakout stations.

(2) The following emission sources within OLD operations constitute the affected source: Storage tanks storing organic liquids and meeting the tank size and liquid vapor pressure cutoffs in Table 2 of this subpart; transfer rack loading positions at which organic liquids are loaded into cargo tanks (tank trucks or railcars) at or above the minimum throughput shown in Table 2 of this subpart; and equipment (pumps, valves, etc.) in organic liquids service for at least 300 hours per year. In addition, vapor leakage points on cargo tanks while loading organic liquids at affected transfer racks are considered part of the affected source.

(c) The provisions of this subpart do not apply to research and development facilities, consistent with section 112(b)(7) of the Clean Air Act (CAA).

(d) An affected source is a new affected source if you commenced construction of the affected source after April 2, 2002, and you meet the applicability criteria in § 63.2334 at the time you commenced operation.

(e) An affected source is reconstructed if you meet the criteria for reconstruction as defined in § 63.2.

(f) An affected source is existing if it is not new or reconstructed.

§ 63.2342 When do I have to comply with this subpart?

(a) If you have a new or reconstructed affected source, you must comply with this subpart according to the guidance in paragraphs (a)(1) and (2) of this section:

(1) If you startup your affected source before [the effective date of this subpart], you must comply with the emission limitations and work practice standards for new and reconstructed sources in this subpart no later than [the effective date of this subpart].

(2) If you startup your affected source after [the effective date of this subpart], you must comply with the emission limitations and work practice standards for new and reconstructed sources in this subpart upon startup of your affected source.

(b) If you have an existing affected source, you must comply with the emission limitations and work practice standards for existing sources no later than [3 years after the effective date of the final rule].

(c) If you have an area source that increases its emissions or its potential to emit such that it becomes a major source of HAP, the guidance in paragraphs (c)(1) and (2) of this section applies:

(1) Any portion of the existing facility that is a new affected source or a new reconstructed source must be in compliance with this subpart upon startup.

(2) All other parts of the source must be in compliance with this subpart no later than 3 years after it becomes a major source.

(d) You must meet the notification requirements in § 63.2382(a) according to the schedule in § 63.2382(b), (c), (d), and (e) and in subpart A of this part. Some of the notifications must be submitted before you are required to comply with the emission limitations and work practice standards in this subpart.

Emission Limitations and Work Practice Standards

§ 63.2346 What emission limitations and work practice standards must I meet?

(a) You must meet each emission limit in Table 2 of this subpart that applies to you.

(b) You must meet each operating limit in Table 3 of this subpart that applies to you.

(c) You must meet each work practice standard in Table 4 of this subpart that applies to you.

(d) As provided in § 63.6(g), you may request approval from the EPA to use an alternative to the work practice standards in this section. If you apply for permission to use an alternative to the work practice standards in this section, you must submit the information described in § 63.6(g)(2).

General Compliance Requirements

§ 63.2350 What are my general requirements for complying with this subpart?

(a) You must be in compliance with the emission limitations and work practice standards in this subpart at all times, except during periods of startup, shutdown, or malfunction.

(b) You must always operate and maintain your affected source, including air pollution control and monitoring equipment, according to the provisions in § 63.6(e)(1)(i).

(c) You must develop and implement a written startup, shutdown, and malfunction plan (SSMP) according to the provisions in § 63.6(e)(3).

Testing and Initial Compliance Requirements

§ 63.2354 By what date must I conduct performance tests or other initial compliance demonstrations?

(a) For existing sources, you must conduct initial performance tests and other initial compliance demonstrations no later than the compliance date specified in § 63.2342(b).

(b) For new sources, you must conduct initial performance tests and other initial compliance demonstrations according to the provisions in § 63.7(a)(2)(i) and (ii).

§ 63.2358 When must I conduct subsequent performance tests?

(a) For cargo tanks equipped with vapor collection equipment that load organic liquids at affected transfer rack loading positions, you must perform the vapor tightness testing required in Table 5 of this subpart on each cargo tank that you own or operate at least once per year.

(b) For nonflare control devices, you must conduct the performance testing required in Table 5 of this subpart at any time the EPA requests you to in accordance with section 114 of the CAA.

§ 63.2362 What performance tests, design evaluations, and performance evaluations must I conduct?

(a) You must conduct each performance test in Table 5 of this subpart that applies to you.

(b) You must conduct each performance test according to the requirements in § 63.7(e)(1), using the procedures specified in § 63.997(e).

(c) You must conduct three separate test runs for each performance test on a nonflare control device, as specified in § 63.7(e)(3). Each test run must last at least 1 hour.

(d) In addition to Method 25 or 25A of 40 CFR part 60, appendix A, to determine compliance with the organic HAP or total organic compounds (TOC) emission limit, you may use Method 18 of 40 CFR part 60, appendix A. If you use Method 18 to measure compliance with the percentage efficiency limit, you must first determine which HAP are present in the inlet gas stream (i.e., uncontrolled emissions) using knowledge of the organic liquids or the screening procedure described in Method 18. In conducting the performance test, you must analyze samples collected as specified in Method 18, simultaneously at the inlet and outlet of the control device. Quantify the emissions for all HAP identified as present in the inlet gas stream for both the inlet and outlet gas streams of the control device.

(e) If you use Method 18 of 40 CFR part 60, appendix A, to measure compliance with the emission concentration limit, you must first determine which HAP are present in the inlet gas stream using knowledge of the organic liquids or the screening procedure described in Method 18. In conducting the performance test, analyze samples collected as specified in Method 18 at the outlet of the control device. Quantify the control device outlet emission concentration for the same HAP identified as present in the inlet or uncontrolled gas stream.

(f) If a principal component of the uncontrolled or inlet gas stream to the control device is formaldehyde, you may use Method 316 of appendix A of this part instead of Method 18 of 40 CFR part 60, appendix A, for measuring the formaldehyde. If formaldehyde is the predominant HAP in the inlet gas stream, you may use Method 316 alone to measure formaldehyde either at the inlet and outlet of the control device using the formaldehyde control efficiency as a surrogate for total organic HAP or TOC efficiency, or at the outlet of a combustion device for determining compliance with the emission concentration limit.

(g) You must conduct each design evaluation of a control device according to the requirements in § 63.985(b)(1)(i).

(h) You may not conduct performance tests during periods of startup, shutdown, or malfunction, as specified in § 63.7(e)(1).

(i) You must conduct each continuous monitoring system (CMS) performance evaluation according to the requirements in § 63.8(e).

§ 63.2366 What are my monitoring installation, operation, and maintenance requirements?

(a) You must install, operate, and maintain each continuous parameter monitoring system (CPMS) according to the requirements in § 63.996. In addition, you must collect and analyze temperature, flow, pressure, or pH data according to the requirements in paragraphs (a)(1) through (4) of this section:

(1) To calculate a valid hourly value, you must have at least four equally spaced data values (or at least two, if that condition is included to allow for periodic calibration checks) for that hour from a CMS that is not out of control according to the monitoring plan (e.g., one that incorporates elements of appendix F, procedure 1 of 40 CFR part 60, appendix F).

(2) To calculate the average emissions for each averaging period, you must have at least 75 percent of the hourly averages for that period using only block hourly average values that are based on valid data (i.e., not from out-of-control periods).

(3) Determine the hourly average of all recorded readings.

(4) Record the results of each inspection, calibration, and validation check.

(b) For each temperature monitoring device, you must meet the requirements in paragraphs (a)(1) through (4) and paragraphs (b)(1) through (8) of this section:

(1) Locate the temperature sensor in a position that provides a representative temperature.

(2) For a noncryogenic temperature range, use a temperature sensor with a minimum tolerance of 2.2 degrees Celsius or 0.75 percent of the temperature value, whichever is greater.

(3) For a cryogenic temperature range, use a temperature sensor with a minimum tolerance of 2.2 degrees Celsius or 2 percent of the temperature value, whichever is greater.

(4) Shield the temperature sensor system from electromagnetic interference and chemical contaminants.

(5) If a chart recorder is used, it must have a sensitivity in the minor division of at least 20 degrees Fahrenheit.

(6) Perform an electronic calibration at least semiannually according to the procedures in the manufacturer's owner's manual. Following the electronic calibration, you must conduct a temperature sensor validation check in which a second or redundant temperature sensor placed near the process temperature sensor must yield a reading within 16.7 degrees Celsius of the process temperature sensor's reading.

(7) Conduct calibration and validation checks any time the sensor exceeds the manufacturer's specified maximum operating temperature range, or install a new temperature sensor.

(8) At least monthly, inspect all components for integrity and all electrical connections for continuity, oxidation, and galvanic corrosion.

(c) For each flow measurement device, you must meet the requirements in paragraphs (a)(1) through (4) and paragraphs (c)(1) through (5) of this section:

(1) Locate the flow sensor and other necessary equipment such as straightening vanes in a position that provides a representative flow.

(2) Use a flow sensor with a minimum tolerance of 2 percent of the flow rate.

(3) Reduce swirling flow or abnormal velocity distributions due to upstream and downstream disturbances.

(4) Conduct a flow sensor calibration check at least semiannually.

(5) At least monthly, inspect all components for integrity, all electrical connections for continuity, and all mechanical connections for leakage.

(d) For each pressure measurement device, you must meet the requirements in paragraphs (a)(1) through (4) and paragraphs (d)(1) through (7) of this section:

(1) Locate the pressure sensor(s) in a position that provides a representative measurement of the pressure.

(2) Minimize or eliminate pulsating pressure, vibration, and internal and external corrosion.

(3) Use a gauge with a minimum tolerance of 0.5 inch of water or a transducer with a minimum tolerance of 1 percent of the pressure range.

(4) Check for pressure tap pluggage daily.

(5) Using a manometer, check gauge calibration quarterly and transducer calibration monthly.

(6) Conduct calibration checks any time the sensor exceeds the manufacturer's specified maximum operating pressure range, or install a new pressure sensor.

(7) At least monthly, inspect all components for integrity, all electrical connections for continuity, and all mechanical connections for leakage.

(e) For each pH measurement device, you must meet the requirements in paragraphs (a)(1) through (4) and paragraphs (e)(1) through (4) of this section:

(1) Locate the pH sensor in a position that provides a representative measurement of pH.

(2) Ensure that the sample is properly mixed and representative of the fluid to be measured.

(3) Check the pH meter's calibration on at least two points every 8 hours of process operation.

(4) At least monthly, inspect all components for integrity and all electrical connections for continuity.

§ 63.2370 How do I demonstrate initial compliance with the emission limitations and work practice standards?

(a) You must demonstrate initial compliance with each emission limit and work practice standard that applies to you according to Tables 6 and 7 of this subpart.

(b) You must establish each site-specific operating limit in Table 3 of this subpart that applies to you according to the requirements in § 63.2362 and Table 5 of this subpart.

(c) You must submit the Notification of Compliance Status containing the results of the initial compliance demonstration according to the requirements in § 63.2382(e).

Continuous Compliance Requirements

§ 63.2374 How do I monitor and collect data to demonstrate continuous compliance?

(a) You must monitor and collect data according to this section.

(b) Except for monitor malfunctions, associated repairs, and required quality assurance or control activities (including, as applicable, calibration checks and required zero and span adjustments), you must monitor continuously (or collect data at all required intervals) at all times that the affected source is operating.

(c) You may not use data recorded during monitoring malfunctions, associated repairs, or required quality assurance or control activities in data averages and calculations used to report emission or operating levels, nor may such data be used in fulfilling a minimum data availability requirement, if applicable. You must use all of the data collected during all other periods in assessing the operation of the control device and associated control system.

§ 63.2378 How do I demonstrate continuous compliance with the emission limitations and work practice standards?

(a) You must demonstrate continuous compliance with each emission limitation and work practice standard in Tables 2 through 4 of this subpart that applies to you according to the methods specified in Tables 8, 9, and 10 of this subpart.

(b) You must report each instance in which you did not meet any emission limit or operating limit in Tables 8 and 9 of this subpart that applies to you. This includes periods of startup, shutdown, or malfunction. You must also report each instance in which you did not meet the requirements in Table 10 of this subpart that apply to you. These instances are deviations from the emission limitations and work practice standards in this subpart. These deviations must be reported according to the requirements in § 63.2386.

(c) During periods of startup, shutdown, or malfunction, you must operate in accordance with your SSMP.

(d) Consistent with §§ 63.6(e) and 63.7(e)(1), deviations that occur during a period of startup, shutdown, or malfunction are not violations if you make an adequate demonstration that you were operating in accordance with the SSMP. We will determine whether deviations that occur during a period of startup, shutdown, or malfunction are violations according to the provisions in § 63.6(e).

Notifications, Reports, and Records

§ 63.2382 What notifications must I submit and when?

(a) You must submit all of the notifications in §§ 63.7(b) and (c), 63.8(e), (f)(4) and (6), and 63.9(b) through (h) that apply to you.

(b) As specified in § 63.9(b)(2), if you startup your affected source before [the effective date of this subpart], you must submit an Initial Notification no later than 120 calendar days after [the effective date of this subpart].

(c) As specified in § 63.9(b)(3), if you startup your new or reconstructed affected source on or after [the effective date], you must submit an Initial Notification no later than 120 days after initial startup.

(d) If you are required to conduct a performance test, you must submit a notification of intent to conduct the test at least 60 calendar days before it is scheduled to begin as required in § 63.7(b)(1).

(e) If you are required to conduct a performance test or other initial compliance demonstration as specified in Table 5, 6, or 7 of this subpart, you must submit a Notification of Compliance Status according to § 63.9(h)(2)(ii).

(1) For each initial compliance demonstration required in Table 5, 6, or 7 of this subpart that does not include a performance test, you must submit the Notification of Compliance Status before the close of business on the 30th calendar day following the completion of the initial compliance demonstration.

(2) For each initial compliance demonstration required in Table 5, 6, or 7 of this subpart that includes a performance test conducted according to the requirements in Table 5 of this subpart, you must submit the Notification of Compliance Status, including the performance test results, before the close of business on the 60th calendar day following the completion of the performance test according to § 63.10(d)(2).

§ 63.2386 What reports must I submit and when?

(a) You must submit each report in Table 11 of this subpart that applies to you.

(b) Unless the Administrator has approved a different schedule for submission of reports under § 63.10(a), you must submit each report by the date in Table 11 of this subpart and according to the requirements in paragraphs (b)(1) through (5) of this section:

(1) The first compliance report must cover the period beginning on the compliance date that is specified for your affected source in § 63.2342 and ending on June 30 or December 31, whichever date is the first date following the end of the first calendar half after the compliance date that is specified for your source in § 63.2342.

(2) The first compliance report must be postmarked no later than July 31 or January 31, whichever date follows the end of the first calendar half after the compliance date that is specified for your affected source in § 63.2342.

(3) Each subsequent compliance report must cover the semiannual reporting period from January 1 through June 30 or the semiannual reporting period from July 1 through December 31.

(4) Each subsequent compliance report must be postmarked no later than July 31 or January 31, whichever date is the first date following the end of the semiannual reporting period.

(5) For each affected source that is subject to permitting regulations pursuant to 40 CFR part 70 or 71, if the permitting authority has established dates for submitting semiannual reports pursuant to 40 CFR 70.6(3)(iii)(A) or 71.6(3)(iii)(A), you may submit the first and subsequent compliance reports according to the dates the permitting authority has established instead of according to the dates in paragraphs (b)(1) through (4) of this section.

(c) The compliance report must contain the information in paragraphs (c)(1) through (7) of this section:

(1) Company name and address.

(2) Statement by a responsible official, including the official's name, title, and signature, certifying that, based on information and belief formed after reasonable inquiry, the statements and information in the report are true, accurate, and complete.

(3) Date of report and beginning and ending dates of the reporting period.

(4) Any changes to the information listed in paragraph (d) of this section that have occurred since the last report.

(5) If you had a startup, shutdown, or malfunction during the reporting period and you took actions consistent with your SSMP, the compliance report must include the information described in § 63.10(d)(5)(i).

(6) If there are no deviations from any emission limitation (emission limit or operating limit) that applies to you and there are no deviations from the requirements for work practice standards in Table 10 of this subpart, a statement that there were no deviations from the emission limitations or work practice standards during the reporting period.

(7) If there were no periods during which the CMS was out of control as specified in § 63.8(c)(7), a statement that there were no periods during which the CMS was out of control during the reporting period.

(d) The first compliance report must contain the information in paragraphs (c)(1) through (7) of this section and also the information in paragraphs (d)(1) through (5) of this section:

(1) A listing of the organic liquids stored or transferred at the facility during the previous 6 months, including for each liquid the information in paragraphs (d)(1)(i) through (iv) of this section:

(i) Liquid name;

(ii) Total weight percentage of the organic HAP in Table 1 of this subpart;

(iii) Annual average true vapor pressure; and

(iv) Total throughput into and out of the facility.

(2) An inventory of all storage tanks at the facility that stored organic liquids during the previous 6 months, including for each tank the information in paragraphs (d)(2)(i) through (iv) of this section:

(i) Tank ID code and capacity;

(ii) Tank roof configuration, rim seal type(s), and description of floating deck fittings, as applicable;

(iii) Name of organic liquid(s) stored in the tank; and

(iv) Control device in use for each fixed-roof tank, where applicable.

(3) A listing of all transfer rack loading positions that transferred organic liquids into cargo tanks during the previous 6 months, including for each loading position the information in paragraphs (d)(3)(i) through (iii) of this section:

(i) ID code;

(ii) Organic liquids name(s) and throughput(s); and

(iii) Control device in use at each position, where applicable.

(4) A listing of all cargo tanks (tank trucks and railcars) that loaded organic liquids at affected transfer rack loading positions during the previous 6 months, including the type of cargo tank, owner, ID number, and date and test method for the most recent vapor tightness test.

(5) A listing of all equipment in organic liquids service during the previous 6 months, including for each component the information in paragraphs (d)(5)(i) through (iv) of this section:

(i) ID code;

(ii) Facility plan drawing showing the equipment location;

(iii) An estimate of the number of hours that the component operated in organic liquids service during the reporting period; and

(iv) Method of compliance with the standard (e.g., “leak detection and repair monitoring” or “equipped with dual mechanical seals”), if applicable.

(e) For each deviation from an emission limitation (emission limit or operating limit) occurring at an affected source where you are using a CMS to comply with an emission limitation in this subpart, you must include the information in paragraphs (c)(1) through (4) and paragraphs (e)(1) through (12) of this section. This includes periods of startup, shutdown, or malfunction.

(1) The date and time that each malfunction started and stopped.

(2) The date and time that each CMS was inoperative, except for zero (low-level) and high-level checks.

(3) The date, time, and duration that each CMS was out of control, including the information in § 63.8(c)(8).

(4) The date and time that each deviation started and stopped, and whether each deviation occurred during a period of startup, shutdown, or malfunction, or during another period.

(5) A summary of the total duration of the deviations during the reporting period and the total duration as a percentage of the total source operating time during that reporting period.

(6) A breakdown of the total duration of the deviations during the reporting period into those that are due to startup, shutdown, control equipment problems, process problems, other known causes, and other unknown causes.

(7) A summary of the total duration of CMS downtime during the reporting period and the total duration of CMS downtime as a percentage of the total source operating time during that reporting period.

(8) An identification of each HAP that was potentially emitted during the deviation.

(9) A brief description of the process at which the CMS deviation occurred.

(10) A brief description of the CMS.

(11) The date of the latest CMS certification or audit.

(12) A description of any changes in CMS, processes, or controls since the last reporting period.

(f) Each affected source that has obtained a title V operating permit pursuant to 40 CFR part 70 or 71 must report all deviations as defined in this subpart in the semiannual monitoring report required by 40 CFR 70.6(a)(3)(iii)(A) or 71.6(a)(3)(iii)(A). If an affected source submits a compliance report pursuant to Table 11 of this subpart along with, or as part of, the semiannual monitoring report required by 40 CFR 70.6(a)(3)(iii)(A) or 71.6(a)(3)(iii)(A), and the compliance report includes all required information concerning deviations from any emission limitation (including any operating limit or work practice standard) requirement in this subpart, we will consider submission of the compliance report as satisfying any obligation to report the same deviations in the semiannual monitoring report. However, submission of a compliance report will not otherwise affect any obligation the affected source may have to report deviations from permit requirements to the permitting authority.

§ 63.2390 What records must I keep?

(a) You must keep records as described in paragraphs (a)(1) through (3) of this section:

(1) A copy of each notification and report that you submitted to comply with this subpart, including all documentation supporting any Initial Notification or Notification of Compliance Status that you submitted, according to the requirements in § 63.10(b)(1) and (2)(xiv).

(2) The records in §§ 63.6(e)(3)(iii) through (v) and 63.10(b)(2)(i)(v) related to startups, shutdowns, and malfunctions.

(3) Results of performance tests.

(b) For each CMS, you must keep records as described in paragraphs (b)(1) and (2) of this section:

(1) Records described in § 63.10(b)(2)(vi) through (xi) that apply to your CMS.

(2) Performance evaluation plans, including previous (i.e., superseded) versions of the plan as required in § 63.8(d)(3).

(c) You must keep the records required in Tables 8, 9, and 10 of this subpart to show continuous compliance with each emission limitation and work practice standard that applies to you.

§ 63.2394 In what form and how long must I keep my records?

(a) Your records must be in a form suitable and readily available for expeditious inspection and review according to § 63.10(b)(1).

(b) As specified in § 63.10(b)(1), you must keep your files of all information (including all reports and notifications) for at least 5 years following the date of each occurrence, measurement, maintenance, corrective action, report, or record.

(c) You must keep each record on site for at least 2 years after the date of each occurrence, measurement, maintenance, corrective action, report, or record, according to § 63.10(b)(1). You may keep the records offsite for the remaining 3 years.

Other Requirements and Information

§ 63.2398 What parts of the General Provisions apply to me?

Table 12 of this subpart shows which parts of the General Provisions in §§ 63.1 through 63.15 apply to you.

§ 63.2402 Who implements and enforces this subpart?

(a) This subpart can be implemented and enforced by the EPA or a delegated authority such as your State, local, or tribal agency. If the EPA Administrator has delegated authority to your State, local, or tribal agency, then that agency, as well as the EPA, has the authority to implement and enforce this subpart. You should contact your EPA Regional Office (see list in § 63.13) to find out if this subpart is delegated to your State, local, or tribal agency.

(b) In delegating implementation and enforcement authority for this subpart to a State, local, or tribal agency under subpart E of this part, the authorities contained in paragraph (c) of this section are retained by the Administrator of the EPA and are not delegated to the State, local, or tribal agency.

(c) The authorities that will not be delegated to State, local, or tribal agencies are described in paragraphs (c)(1) through (4) of this section:

(1) Approval of alternatives to the nonopacity emission limitations and work practice standards in § 63.2346(a) through (c) under § 63.6(g).

(2) Approval of major alternatives to test methods under § 63.7(e)(2)(ii) and (f) and as defined in § 63.90.

(3) Approval of major alternatives to monitoring under § 63.8(f) and as defined in § 63.90.

(4) Approval of major alternatives to recordkeeping and reporting under § 63.10(f) and as defined in § 63.90.

§ 63.2406 What definitions apply to this subpart?

Terms used in this subpart are defined in the CAA, in § 63.2, and in this section. If the same term is defined in another subpart and in this section, it will have the meaning given in this section for purposes of this subpart.

Annual average true vapor pressure, as used in this subpart, means the total vapor pressure exerted by a stored or transferred organic liquid at the temperature equal to the annual average of the local (nearest) average monthly temperatures reported by the National Weather Service. This temperature is the arithmetic average of the 12 monthly average temperatures for each calendar year at each affected source and is recalculated at the end of each year. The vapor pressure value is determined:

(1) In accordance with methods described in American Petroleum Institute Publication 2517, Evaporative Loss from External Floating-Roof Tanks (incorporated by reference as specified in § 63.14);

(2) Using standard reference texts;

(3) By the American Society for Testing and Materials Method D2879-83 (incorporated by reference as specified in § 63.14); or

(4) Using any other method that the EPA approves.

API gravity means the weight per unit volume of hydrocarbon liquids as measured by a system recommended by the American Petroleum Institute (API) and is expressed in degrees.

Black oil means hydrocarbon (petroleum) liquid with a gas-to-oil ratio less than 0.31 cubic meters per liter (41.4 cubic feet per gallon) and an API gravity less than 40 degrees, measured at the point of entry to the distribution system.

Capacity means the volume of liquid that is capable of being stored in a storage tank, determined by multiplying the tank's internal cross-sectional area by the internal height of the shell.

Cargo tank means a tank truck or railcar into which organic liquids are loaded at an OLD operation transfer rack.

Closed vent system means a system that is not open to the atmosphere and is composed of piping, ductwork, connections, and, if necessary, flow-inducing devices that transport gas or vapors from an emission point to a control device. This system does not include the vapor collection system that is part of some tank trucks and railcars or the loading arm or hose that is used for vapor return. For transfer racks, the closed vent system begins at, and includes, the first block valve on the downstream side of the loading arm or hose used to convey displaced vapors.

Combustion device means an individual unit of equipment, such as a flare, incinerator, process heater, or boiler, used for the combustion of organic emissions.

Control device, as used in this subpart, means any combustion device, recovery device, recapture device, or any combination of these devices used to comply with this subpart. Such equipment or devices include, but are not limited to, absorbers, adsorbers, condensers, incinerators, flares, boilers, and process heaters. Primary condensers, steam strippers, or fuel gas systems are not considered control devices.

Crude oil, as used in this subpart, means any of the naturally occurring liquids commonly referred to as crude oil, other than black oil, regardless of specific physical properties.

Crude oil pipeline breakout station plant site means a facility along a pipeline containing storage tanks and equipment used to temporarily store crude oil from the pipeline. Breakout stations may also contain booster pumps used to move the crude oil along the pipeline. These facilities are downstream of the point of custody transfer.

Crude oil pipeline pumping station plant site means a facility along a pipeline containing equipment (i.e., booster pumps, etc.) used to sustain the movement of crude oil through the pipeline. Pumping stations may also contain crude oil breakout storage tanks. These facilities are downstream of the point of custody transfer.

Custody transfer means the transfer of hydrocarbon liquids, after processing and/or treatment in the producing operations, from storage tanks or automatic transfer facilities to pipelines or any other forms of transportation.

Design evaluation means a procedure for evaluating control devices that complies with the requirements in § 63.985(b)(1)(i).

Deviation means any instance in which an affected source subject to this subpart, or an owner or operator of such a source:

(1) Fails to meet any requirement or obligation established by this subpart, including but not limited to any emission limitation (including any operating limit) or work practice standard;

(2) Fails to meet any term or condition that is adopted to implement an applicable requirement in this subpart, and that is included in the operating permit for any affected source required to obtain such a permit; or

(3) Fails to meet any emission limitation (including any operating limit) or work practice standard in this subpart during startup, shutdown, or malfunction, regardless of whether or not such failure is permitted by this subpart.

Emission limitation means an emission limit, opacity limit, operating limit, or visible emission limit.

Equipment means each pump, valve, and sampling connection system used in organic liquids service at an OLD operation.

Gasoline means any petroleum distillate or petroleum distillate/alcohol blend having a Reid vapor pressure of 27.6 kilopascals (4.0 psia) or greater which is used as a fuel for internal combustion engines. Aviation gasoline is included in this definition.

Gas-to-oil ratio means the number of standard cubic meters of gas produced per liter of crude oil or other hydrocarbon liquid.

In organic liquids service means that a piece of equipment contains or contacts organic liquids having 5 percent by weight or greater of the organic HAP listed in Table 1 of this subpart.

Organic liquid, as used in this subpart, means:

(1) Crude oil; or

(2) Any liquid or liquid mixture that contains a total of 5 percent by weight or more of the organic HAP listed in Table 1 of this subpart, as determined using Method 18 of 40 CFR part 60, appendix A, or any other method approved by the Administrator. Any fuels consumed or dispensed directly to users on the plant site and all gasoline are excluded from the definition.

Organic liquids distribution (OLD) operation means the activities and equipment used to transfer organic liquids into or out of a plant site. It also includes storage of distributed organic liquids on the site. The OLD operation can be those activities performed at a dedicated distribution plant site, or it may be collocated in a plant site at which manufacturing operations are carried out.

Permitting authority means one of the following:

(1) The State air pollution control agency, local agency, or other agency authorized by the EPA Administrator to carry out a permit program under part 70 of this chapter; or

(2) The EPA Administrator, in the case of EPA-implemented permit programs under title V of the CAA (42 U.S.C. 7661) and part 71 of this chapter.

Plant site, as used in this subpart, means all contiguous or adjoining property that is under common control, including properties that are separated only by a road or other public right-of-way. Common control includes properties that are owned, leased, or operated by the same entity, parent entity, subsidiary, or any combination.

Research and development facility means laboratory and pilot plant operations whose primary purpose is to conduct research and development into new processes and products, where the operations are under the close supervision of technically trained personnel, and which are not engaged in the manufacture of products for commercial sale, except in a de minimis manner.

Responsible official means responsible official as defined in 40 CFR 70.2.

Shutdown means the cessation of operation of a regulated source and equipment required or used to comply with this subpart, or the emptying and degassing of a storage tank. Shutdown as defined in this section includes, but is not limited to, events that result from periodic maintenance, replacement of equipment, or repair.

Storage tank, as used in this subpart, means a stationary unit that is constructed primarily of nonearthen materials (such as wood, concrete, steel, or reinforced plastic) that provide structural support and is designed to hold a bulk quantity of liquid. Storage tanks do not include:

(1) Vessels permanently attached to conveyances such as trucks, railcars, barges, or ships;

(2) Bottoms receiver tanks;

(3) Surge control vessels;

(4) Vessels storing wastewater; or

(5) Reactor vessels associated with a manufacturing process unit.

Transfer rack means a single system used to load organic liquids into bulk cargo tanks mounted on or in a truck, truck trailer, or railcar. It includes all loading arms, pumps, meters, shutoff valves, relief valves, and other piping and equipment necessary for the transfer operation. Transfer equipment and operations that are physically separate (i.e., do not share common piping, valves, and other equipment) are considered to be separate transfer racks.

Transfer rack loading position means an individual tank truck or railcar parking spot at a transfer rack. An affected loading position is one at which 11.8 million liters (3.12 million gallons) per year or more of organic liquids are transferred into a combination of tank trucks and railcars.

Vapor-tight cargo tank means a cargo tank liquid delivery tank that has been demonstrated to be vapor-tight. To be considered vapor-tight, a cargo tank equipped with vapor collection equipment must undergo a pressure change of no more than 250 pascals (1 inch of water) within 5 minutes after it is pressurized to 4,500 pascals (18 inches of water). This capability must be demonstrated annually using the procedures specified in Method 27 of 40 CFR part 60, appendix A. For all other cargo tanks, vapor tightness is demonstrated by performing the U.S. Department of Transportation pressure test procedures for tank cars and cargo tanks.

Work practice standard means any design, equipment, work practice, or operational standard, or combination thereof, that is promulgated pursuant to section 112(h) of the CAA.

Tables to Subpart EEEE of Part 63

Table 1 to Subpart EEEE of Part 63—Organic Hazardous Air Pollutants
[As stated in § 63.2334(b), you must use the information listed in the following table to determine if the liquids handled at your facility contain at least 5 percent by weight of these HAP]
Compound name | CAS No.ᵃ
Acetaldehyde | 75-07-0
Acetonitrile | 75-05-8
Acrolein | 107-02-8
Acrylic acid | 79-10-7
Acrylonitrile | 107-13-1
Allyl chloride | 107-05-1
Benzene | 71-43-2
Bis (chloromethyl) ether | 542-88-1
Bromoform | 75-25-2
Butadiene (1,3-) | 106-99-0
Carbon disulfide | 75-15-0
Carbon tetrachloride | 56-23-5
Chlorobenzene | 108-90-7
2-Chloro-1,3-butadiene (Chloroprene) | 126-99-8
Chloroform | 67-66-3
Cumene | 98-82-8
Dichloroethane (1,2-) (Ethylene dichloride) (EDC) | 107-06-2
Dichloroethylether (Bis(2-chloroethyl)ether) | 111-44-4
Dichloropropene (1,3-) | 542-75-6
Diethylene glycol monobutyl ether | 112-34-5
Diethylene glycol monomethyl ether | 111-77-3
Dimethylhydrazine (1,1-) | 57-14-7
Dioxane (1,4-) (1,4-Diethyleneoxide) | 123-91-1
Epichlorohydrin (1-Chloro-2,3-epoxypropane) | 106-89-8
Epoxybutane (1,2-) | 106-88-7
Ethyl acrylate | 140-88-5
Ethylbenzene | 100-41-4
Ethyl chloride (Chloroethane) | 75-00-3
Ethylene dibromide (Dibromomethane) | 106-93-4
Ethylene glycol dimethyl ether | 110-71-4
Ethylene glycol monomethyl ether | 109-86-4
Ethylene glycol monomethyl ether acetate | 110-49-6
Ethylene glycol monophenyl ether | 122-99-6
Ethylene oxide | 75-21-8
Ethylidene dichloride (1,1-Dichloroethane) | 75-34-3
Formaldehyde | 50-00-0
Hexane | 110-54-3
Hydrazine | 302-01-2
Methanol | 67-56-1
Methyl bromide (Bromomethane) | 74-83-9
Methyl chloride (Chloromethane) | 74-87-3
Methylene chloride (Dichloromethane) | 75-09-2
Methyl ethyl ketone (2-Butanone) (MEK) | 78-93-3
Methyl hydrazine | 60-34-4
Methyl isobutyl ketone (Hexone) (MIBK) | 108-10-1
Methyl isocyanate | 624-83-9
Methyl methacrylate | 80-62-6
Methyl tert-butyl ether (MTBE) | 1634-04-4
Nitropropane (2-) | 79-46-9
Phosgene | 75-44-5
Propionaldehyde | 123-38-6
Propylene dichloride (1,2-Dichloropropane) | 78-87-5
Propylene oxide | 75-56-9
Styrene | 100-42-5
Tetrachloroethane (1,1,2,2-) | 79-34-5
Tetrachloroethylene (Perchloroethylene) | 127-18-4
Toluene | 108-88-3
Trichloroethane (1,1,1-) (Methyl chloroform) | 71-55-6
Trichloroethane (1,1,2-) (Vinyl trichloride) | 79-00-5
Trichloroethylene | 79-01-6
Triethylamine | 121-44-8
Trimethylpentane (2,2,4-) | 540-84-1
Vinyl acetate | 108-05-4
Vinyl chloride (Chloroethylene) | 75-01-4
Vinylidene chloride (1,1-Dichloroethylene) | 75-35-4
Xylene (m-) | 108-38-3
Xylene (o-) | 95-47-6
Xylene (p-) | 106-42-3
Xylenes (isomers and mixtures) | 1330-20-7
ᵃ CAS numbers refer to the Chemical Abstracts Services registry number assigned to specific compounds, isomers, or mixtures of compounds.

Table 2 to Subpart EEEE of Part 63—Emission Limits
[As stated in §§ 63.2338(b)(2) and 63.2346(a), you must comply with the emission limits for organic liquid distribution affected sources in the following table]
If you own or operate * * * | And if * * * | Then you must * * *
1. A storage tank at an existing affected source with a capacity ≥75 cubic meters (20,000 gallons) and <151 cubic meters (40,000 gallons) | a. The annual average true vapor pressure of the stored organic liquid is ≥13.1 kilopascals (1.9 psia) and <76.6 kilopascals (11.1 psia) | i. Reduce emissions of total organic HAP or TOC by 95 weight-percent (or, for combustion devices, to an exhaust concentration of 20 parts per million by volume, on a dry basis, corrected to 3% oxygen) by venting emissions through a closed vent system to any combination of control devices meeting the requirements of subpart SS of this part, as specified in §§ 63.982(a)(1) and (f), 63.983, 63.984, 63.985, 63.987, 63.988, 63.990, and 63.995; or
|  | ii. Comply with the work practice standards specified in Table 4, item 1 of this subpart.
2. A storage tank at an existing affected source with a capacity ≥151 cubic meters (40,000 gallons) | The annual average true vapor pressure of the stored organic liquid is ≥5.2 kilopascals (0.75 psia) | Same as item 1 of Table 2 of this subpart.
3. A storage tank at a new affected source with a capacity ≥38 cubic meters (10,000 gallons) and <151 cubic meters (40,000 gallons) | The annual average true vapor pressure of the stored organic liquid is ≥13.1 kilopascals (1.9 psia) and <76.6 kilopascals (11.1 psia) | Same as item 1 of Table 2 of this subpart.
4. A storage tank at a new affected source with a capacity ≥151 cubic meters (40,000 gallons) | The annual average true vapor pressure of the stored organic liquid is ≥0.7 kilopascals (0.1 psia) | Same as item 1 of Table 2 of this subpart.
5. A transfer rack | a. The transfer rack loads at any loading position ≥11.8 million liters (3.12 million gallons) per year of organic liquids into a combination of tank trucks and railcars | i. Reduce emissions of total organic HAP or TOC at each affected loading position by 95 weight-percent (or, for combustion devices, to an exhaust concentration less than or equal to 20 parts per million by volume, on a dry basis, corrected to 3% oxygen) by venting emissions through a closed vent system to any combination of control devices meeting the requirements of subpart SS of this part, as specified in §§ 63.982(a)(3)(ii) and (f), 63.983, 63.984, 63.987, 63.988, 63.990, 63.995, and 63.997; and
|  | ii. Comply with the work practice standards specified in Table 4, item 2 of this subpart.

Table 3 to Subpart EEEE of Part 63—Operating Limits
[As stated in §§ 63.2346(b) and 63.2370(b), you must comply with the operating limits for organic liquid distribution affected sources in the following table]
For * * * | You must * * *
1. Each existing and each new affected source using a thermal oxidizer to comply with an emission limit in Table 2 of this subpart | Maintain the hourly average firebox temperature greater than or equal to the reference temperature established during the design evaluation or performance test.
2. Each existing and each new affected source using a catalytic oxidizer to comply with an emission limit in Table 2 of this subpart | a. Replace the existing catalyst bed with a bed that meets the replacement specifications established during the design evaluation or performance test before the age of the bed exceeds the maximum allowable age established during the design evaluation or performance test; and
| b. Maintain the hourly average temperature at the inlet of the catalyst bed greater than or equal to the reference temperature established during the design evaluation or performance test; and
| c. Maintain the hourly average temperature difference across the catalyst bed greater than or equal to the minimum temperature difference established during the design evaluation or performance test.
3. Each existing and each new affected source using a condenser to comply with an emission limit in Table 2 of this subpart. | Maintain the hourly average condenser exit temperature less than or equal to the reference temperature established during the design evaluation or performance test.
4. Each existing and each new affected source using an adsorption system with adsorbent regeneration to comply with an emission limit in Table 2 of this subpart. | a. Replace the existing adsorbent in each segment of the bed with an adsorbent that meets the replacement specifications established during the design evaluation or performance test before the age of the adsorbent exceeds the maximum allowable age established during the design evaluation or performance test; and
| b. Maintain the frequency of regeneration greater than or equal to the reference frequency established during the design evaluation or performance test; and
| c. Maintain the total regeneration stream mass flow during the adsorption bed regeneration cycle greater than or equal to the reference stream mass flow established during the design evaluation or performance test; and
| d. Maintain the temperature of the adsorption bed during regeneration (except during the cooling cycle) greater than or equal to the reference temperature established during the design evaluation or performance test; and
| e. Maintain the temperature of the adsorption bed after regeneration (and within 15 minutes after completing any cooling cycle) less than or equal to the reference temperature established during the design evaluation or performance test.
5. Each existing and each new affected source using an adsorption system without adsorbent regeneration to comply with an emission limit in Table 2 of this subpart. | a. Replace the existing adsorbent in each segment of the bed with an adsorbent that meets the replacement specifications established during the design evaluation or performance test before the age of the adsorbent exceeds the maximum allowable age established during the design evaluation or performance test; and
| b. Maintain the temperature of the adsorption bed less than or equal to the reference temperature established during the design evaluation or performance test.
6. Each existing and each new affected source using a flare to comply with an emission limit in Table 2 of this subpart. | a. Comply with the equipment and operating requirements in § 63.987(a); and b. Conduct an initial flare compliance assessment in accordance with § 63.987(b); and
| c. Install and operate monitoring equipment as specified in § 63.987(c).

Table 4 to Subpart EEEE of Part 63—Work Practice Standards
[As stated in § 63.2346(c), you must comply with the work practice standards for organic liquid distribution affected sources in the following table]
For each * * * | You must * * *
1. Storage tank at an existing or new affected source meeting any set of capacity and vapor pressure limits specified in Table 2, items 1-4 of this subpart | As an alternative to the emission limit in Table 2 of this subpart, comply with the requirements of subpart WW (control level 2) of this part.
2. Transfer rack affected loading position at an existing or new affected source that meets the throughput cutoff specified in Table 2, item 5 of this subpart | a. For cargo tanks equipped with vapor collection equipment, ensure that organic liquids are loaded only into cargo tanks that have been demonstrated, using EPA Method 27, 40 CFR part 60, appendix A within the last 12 months, to be vapor-tight (i.e., will undergo a pressure change of not more than 250 pascals (1 inch of water) within 5 minutes after being pressurized to 4,500 pascals (18 inches of water)). Follow the steps outlined in 40 CFR 60.502(e) for these equipped cargo tanks. The required vapor tightness documentation is described in 40 CFR 60.505(b); and
| b. For cargo tanks without vapor collection equipment, ensure that organic liquids are loaded only into cargo tanks that have a current certification in accordance with the U.S. DOT pressure test requirements; and
| c. Comply with the provisions in 40 CFR 60.502(d), (f), (g), (h), and (i) for the equipped cargo tanks described in item 2.a in Table 4 of this subpart.
3. Piece of equipment, as defined under 63.2406, of this subpart, that operates in organic liquids service ≥ 300 hours per year | Comply with the requirement of subpart TT (control level 1) or subpart UU (control level 2) of this part.

Table 5 to Subpart EEEE of Part 63—Requirements for Performance Tests
[As stated in §§ 63.2358 and 63.2362(a), you must comply with the requirements for performance tests for existing or new affected sources in the following table]
For * * * | You must conduct a performance test * * * | Using * * * | To determine * * * | According to the following requirements * * *
1. Each existing and each new affected source using a nonflare control device to comply with an emission limit in Table 2 of this subpart | a. To determine the organic HAP or TOC control efficiency of each nonflare control device, or the exhaust concentration of each combustion device | i. Method 1 or 1A in appendix A of 40 CFR part 60, as appropriate | (1) Sampling port locations and the required number of traverse points | (A) Sampling sites must be located at the inlet and outlet of each control device and prior to any releases to the atmosphere; and (B) Sampling sites must be located at the outlet of each control device and prior to any releases to the atmosphere.
|  | ii. Method 2, 2A, 2C, 2D, 2F, or 2G in appendix A of 40 CFR part 60, as appropriate | Stack gas velocity and volumetric flow rate. | See the requirement in item 1.a.i.(1)(A) and (B) of this table.
|  | iii. Method 3 or 3B in appendix A of 40 CFR part 60, as appropriate | Concentration of CO2 and O2 and dry molecular weight of the stack gas | See the requirement in item 1.a.i.(1)(A) and (B) of this table.
|  | iv. Method 4 in appendix A of 40 CFR part 60 | Moisture content of the stack gas | See the requirement in item 1.a.i.(1)(A) and (B) of this table.
|  | v. Method 18, 25, or 25A in appendix A of 40 CFR part 60, as appropriate, or Method 316 in appendix A of 40 CFR part 63 for measuring formaldehyde | (1) Total organic HAP or TOC, or formaldehyde emissions | (A) The organic HAP used for the calibration gas for Method 25A must be the single organic HAP representing the largest percent by volume of emissions; and (B) during the performance test or a design evaluation, you must establish the operating parameter limits within which total organic HAP or TOC emissions are reduced by at least 95 weight-percent or to 20 ppmv exhaust concentration
2. Each cargo tank that you own that loads at an existing or new affected transfer rack loading position and equipped with vapor collection equipment | To determine the vapor tightness of the tank and repair as needed until it passes the test | Method 27 in appendix A of 40 CFR part 60 | Vapor tightness | The pressure change in the tank must be no more than 250 pascals (1 inch of water) in 5 minutes after it is pressurized to 4,500 pascals (18 inches of water).

Table 6 to Subpart EEEE of Part 63—Initial Compliance With Emission Limits
[As stated in §§ 63.2370(a) and 63.2382(e), you must show initial compliance with the emission limits for existing or new affected sources according to the following table]
For each * * * | For the following emission limit * * * | You have demonstrated initial compliance if * * * | By * * *
1. Storage tank at an existing affected source meeting either set of capacity and vapor pressure limits specified in Table 2, items 1 and 2 of this subpart. | a. Reduce total organic HAP or TOC emissions by at least 95 weight-percent, or to an exhaust concentration of ≤20 ppmv. | i. Total organic HAP or TOC emissions, based on the results of the performance testing specified in Table 5 of this subpart, are reduced by at least 95 weight-percent or to an exhaust concentration of ≤20 ppmv. | 3 years after [publication date of final rule in the FR].
2. Storage tank at a new affected source meeting either set of capacity and vapor pressure limits specified in Table 2, items 3 and 4 of this subpart. | See the emission limit in item 1.a. of this table. | See the compliance demonstration in item 1.a.i. of this table. | The initial startup date for the affected source.
3. Transfer rack loading position at an existing affected source meeting the throughput level for organic liquids specified in Table 2, item 5 of this subpart. | See the emission limit in item 1.a.i.(1)(A) and (B) of this table. | See the compliance demonstration in item 1.a.i.(1)(A) and (B) of this table. | 3 years after [publication date of final rule in the FR].
4. Transfer rack loading position at a new affected source meeting the throughput level for organic liquids specified in Table 2, item 5 of this subpart | See the emission limit in item 1.a.i.(1)(A) and (B) of this table | See the compliance demonstration item 1.a.i.(1)(A) and (B) of this table | The initial startup date for the affected source.

Table 7 to Subpart EEEE of Part 63—Initial Compliance With Work Practice Standards
[As stated in §§ 63.2370(a) and 63.2382(e), you must show initial compliance with the work practice standards for existing or new affected sources according to the following table]
For each * * * | For the following standard * * * | You have demonstrated initial compliance if * * * | By * * *
1. Storage tank at an existing affected source meeting either set of capacity and vapor pressure specified in Table 2, items 1 and 2 of this subpart | Install a floating roof or equivalent control that meets the requirements in Table 4, item 1 of this subpart | You visually inspect each internal floating roof before the initial filling of the storage tank, and perform seal gap inspections of the primary and secondary rim seals of each external floating roof within 90 days after the initial filling of the storage tank | 3 years after [publication date of final rule in the FR].
2. Storage tank at a new affected source meeting either set of capacity and vapor pressure limits specified in Table 2, items 3 and 4 of this subpart | See the standard in item 1. of this table | See the compliance demonstration in item 1. of this table | The initial startup date for the affected source.
3. Transfer rack loading position at an existing affected source that meets the throughput cutoff in Table 2, item 5 of this subpart | Load organic liquids only into cargo tanks having current vapor tightness certification as described in Table 4, item 2 of this subpart | You take steps to ensure that only vapor-tight cargo tanks load at affected loading positions | 3 years after [publication date of final rule in the FR].
4. Transfer rack loading position at a new affected source that meets the throughput cutoff in Table 2, item 5 of this subpart | See the standard in item 3. of this table | See the compliance demonstration in item 3. of this table | The initial startup date for the affected source.
5. Piece of equipment at an existing affected source, as defined under § 63.2410 that operates in organic liquids service ≥ 300 hours per year | Carry out a leak detection and repair program or equivalent control according to one of the subparts listed in Table 4, item 3 of this subpart | You make available written specifications for the leak detection and repair program or equivalent control approach | 3 years after [publication date of final rule in the FR].
6. Piece of equipment at a new affected source, as defined under § 63.2410 that operates in organic liquids service ≥ 300 hours per year | See the standard in item 5. of this table | See the compliance demonstration in item 5. of this table | The initial startup date for the affected source.

Table 8 to Subpart EEEE of Part 63—Continuous Compliance With Emission Limits
[As stated in §§ 63.2378(a) and (b) and 63.2390(c), you must show continuous compliance with the emission limits for existing or new affected sources according to the following table]
For * * * | For the following emission limit * * * | You must demonstrate continuous compliance by * * *
1. Each storage tank at an existing or new affected source meeting any set of capacity and vapor pressure limits specified in Table 2, items 1 through 4 of this subpart | a. Reduction of total organic HAP or TOC emissions from the closed vent system and control device must be 95 weight-percent or greater, or 20 ppmv of organic HAP or TOC in the exhaust of combustion devices | i. Performing CMS monitoring and collecting data according to §§ 63.2366, 63.2374, and 63.2378; and ii. Maintaining the site-specific operating limits within the ranges established during the design evaluation or performance test.
2. Each transfer rack loading position at an existing or new affected source meeting the throughput cutoff for organic liquids specified in Table 2, item 5 of this subpart | See the emission limit in item 1.a. of this table | See the compliance demonstration in item 1.a.i. and ii. of this table.

Table 9 to Subpart EEEE of Part 63—Continuous Compliance With Operating Limits
[As stated in §§ 63.2378(a) and (b) and 63.2390(c), you must show continuous compliance with the operating limits for existing or new affected sources according to the following table]
For each existing and each new * * * | For the following operating limit * * * | You must demonstrate continuous compliance by * * *
1. Affected source using a thermal oxidizer to comply with an emission limit in Table 2 of this subpart | a. Maintain the hourly average firebox temperature greater than or equal to the reference temperature established during the design evaluation or performance test | i. Continuously monitoring and recording firebox temperature every 15 minutes and maintaining the hourly average firebox temperature greater than or equal to the reference temperature established during the design evaluation or performance test; and ii. Keeping the applicable records required in § 63.998.
2. Affected source using a catalytic oxidizer to comply with an emission limit in Table 2 of this subpart | a. Replace the existing catalyst bed with a catalyst bed that meets the replacement specifications established during the design evaluation or performance test before the age of the bed exceeds the maximum allowable age established during the design evaluation or performance test | i. Replacing the existing catalyst bed with a catalyst bed that meets the replacement specifications established during the design evaluation or performance test before the age of the bed exceeds the maximum allowable age established during the design evaluation or performance test; and ii. Keeping the applicable records required in § 63.998.
| b. Maintain the hourly average temperature at the inlet of the catalyst bed greater than or equal to the reference temperature established during the design evaluation or performance test | i. Continuously monitoring and recording the temperature at the inlet of the catalyst bed at least every 15 minutes and maintaining the hourly average temperature at the inlet of the catalyst bed greater than or equal to the reference temperature established during the design evaluation or performance test; and ii. Keeping the applicable records required in § 63.998.
| c. Maintain the hourly average temperature difference across the catalyst bed greater than or equal to the minimum temperature difference established during the design evaluation or performance test | i. Continuously monitoring and recording the temperature at the outlet of the catalyst bed every 15 minutes and maintaining the hourly average temperature difference across the catalyst bed greater than or equal to the minimum temperature difference established during the design evaluation or performance test; and ii. Keeping the applicable records required in § 63.998.
3. Affected source using a condenser to comply with an emission limit in Table 2 of this subpart | a. Maintain the hourly average condenser exit temperature less than or equal to the reference temperature established during the design evaluation or performance test | i. Continuously monitoring and recording the temperature at the exit of the condenser at least every 15 minutes and maintaining the hourly average condenser exit temperature less than or equal to the reference temperature established during the design evaluation or performance test; and ii. Keeping the applicable records required in § 63.998.
4. Affected source using an adsorption system with adsorbent regeneration to comply with an emission limit in Table 2 of this subpart | a. Replace the existing adsorbent in each segment of the bed with an adsorbent that meets the replacement specifications established during the design evaluation or performance test before the age of the adsorbent exceeds the maximum allowable age established during the design evaluation or performance test | i. Replacing the existing adsorbent in each segment of the bed with an adsorbent that meets the replacement specifications established during the design evaluation or performance test before the age of the adsorbent exceeds the maximum allowable age established during the design evaluation or performance test; and ii. Keeping the applicable records required in § 63.998.
| b. Maintain the frequency of regeneration greater than or equal to the reference frequency established during the design evaluation or performance test | i. Maintaining the frequency of regeneration greater than or equal to the reference frequency established during the design evaluation or performance test; and ii. Keeping the applicable records required in § 63.998.
| c. Maintain the regeneration stream mass flow during the adsorption bed regeneration cycle greater than or equal to the reference stream mass flow established during the design evaluation or performance test | i. Maintaining the total regeneration stream mass flow during the adsorption bed regeneration cycle greater than or equal to the reference stream mass flow established during the design evaluation or performance test; and ii. Keeping the applicable records required in § 63.998.
| d. Maintain the temperature of the adsorption bed during regeneration (except during the cooling cycle) greater than or equal to the reference temperature established during the design evaluation or performance test | i. Maintaining the temperature of the adsorption bed during regeneration (except during the cooling cycle) greater than or equal to the reference temperature established during the design evaluation or performance test; and ii. Keeping the applicable records required in § 63.998.
| e. maintain the temperature of the adsorption bed after regeneration (and within 15 minutes after completing any cooling cycle) less than or equal to the reference temperature established during the design evaluation or performance test | i. Maintaining the temperature of the adsorption bed after regeneration (and within 15 minutes after completing any cooling cycle) less than or equal to the reference temperature established during the design evaluation or performance test; and ii. Keeping the applicable records required in § 63.998.
5. Affected source using an adsorption system without adsorbent regeneration to comply with an emission limit in Table 2 of this subpart | a. Replace the existing adsorbent in each segment of the bed with an adsorbent that meets the replacement specifications established during the design evaluation or performance test before the age of the adsorbent exceeds the maximum allowable age established during the design evaluation or performance test | i. Replacing the existing adsorbent in each segment of the bed with an adsorbent that meets the replacement specifications established during the design evaluation or performance test before the age of the adsorbent exceeds the maximum allowable age established during the design evaluation or performance test; and ii. Keeping the applicable records required in § 63.998.
| b. Maintain the temperature of the adsorption bed less than or equal to the reference temperature established during the design evaluation or performance test | i. Maintaining the temperature of the adsorption bed less than or equal to the reference temperature established during the design evaluation or performance test; and ii. Keeping the applicable records required in § 63.998.
6. Affected source using a flare to comply with an emission limit in Table 2 of this subpart | a. Maintain a pilot flame present in the flare at all times that vapors are not being vented to the flare (§ 63.11(b)(5)). | i. Continuously operating a device that detects the presence of the pilot flame; and ii. Keeping the applicable records required in § 63.998.
| b. Maintain a flare flame at all times that vapors are being vented from the emission source (§ 63.11(b)(5)) | i. Maintaining a flare flame at all times that vapors are being vented from the emission source; and ii. Keeping the applicable records required in § 63.998.
| c. Operate the flare with no visible emissions, except for up to 5 minutes in any 2 consecutive hours (§ 63.11(b)(4)). | i. Operating the flare with no visible emissions exceeding the amount allowed; and ii. Keeping the applicable records required in § 63.998.
| d. Operate the flare with an exit velocity that is within the applicable limits in § 63.11(b)(6), (7), and (8) | i. Operating the flare within the applicable exit velocity limits; and ii. Keeping the applicable records required in § 63.998.
| e. Operate the flare with a net heating value of the gas being combusted greater than the applicable minimum value in § 63.11(b)(6)(ii). | i. Operating the flare with the gas net heating value within the applicable limit; and ii. Keeping the applicable records required in § 63.998.

Table 10 to Subpart EEEE of Part 63—Continuous Compliance With Work Practice Standards
[As stated in §§ 63.2378(a) and (b) and 63.2386(c)(6), you must show continuous compliance with the work practice standards for existing or new affected sources according to the following table]
For* * * | For the following standard* * * | You must demonstrate continuous compliance by* * *
1. Each internal floating roof (IFR) storage tank at an existing or new affected source meeting any set of capacity and vapor pressure limits specified in Table 2, items 1 through 4 of this subpart | a. Install a floating roof designed and operated according to the applicable specifications in § 63.1063(a) and (b) | i. Visually inspecting the floating roof deck, deck fittings, and rim seals of each IFR: once per year, and each time the storage tank is completely emptied and degassed, or every 10 years, whichever occurs first (§ 63.1063(c)(1), (d), and (e)); and ii. Keeping the tank records required in § 63.1065.
2. Each external floating roof (EFR) storage tank at an existing or new affected source meeting any set of capacity and vapor pressure limits specified in Table 2, items 1 through 4 of this subpart | a. See the standard in item 1.a. of this table | i. Visually inspecting the floating roof deck, deck fittings, and rim seals of each EFR each time the storage tank is completely emptied and degassed, or every 10 years, whichever occurs first (§ 63.1063(c)(2), (d), and (e)); and ii. Performing seal gap measurements on the secondary seal of each EFR at least once every year, and on the primary seal of each EFR at least every 5 years (§ 63.1063(c)(2), (d), and (e)); and iii. Keeping the tank records required in § 63.1065.
3. Each IFR or EFR tank at an existing or new affected source meeting any set of capacity and vapor pressure limits specified in Table 2, items 1 through 4 of this subpart | a. Repair the conditions causing storage tank inspection failures (§ 63.1063(e)) | i. Repairing conditions causing inspection failures: before refilling the storage tank with liquid, or within 45 days (or up to 105 days with extensions) for a tank containing liquid; and ii. keeping the tank records required in § 63.1065(b).

Table 11 to Subpart EEEE of Part 63—Requirements for Reports
[As stated in § 63.2386(b) and (f), you must submit a compliance or startup, shutdown, and malfunction report according to the following table]
You must submit a (n) * * * | The report must contain * * * | You must submit the report * * *
1. Compliance report | a. A statement that there were no deviations from the standards during the reporting period; or if you have a deviation from any standard during the reporting period, the report must contain the information in § 63.2386(e) | i. Semiannually, and report. it must be postmarked within 30 days after the end of each calendar half (§ 63.10(e)(3)(v)).
| b. If you had a startup, shutdown, or malfunction during the reporting period and you took actions consistent with your SSMP, the compliance report must include the information in § 63.10(d)(5)(i) | See the submission in item 1.a.i. of this table.
2. Immediate startup, shutdown, and malfunction report if you had a startup, shutdown, or malfunction during the reporting period that is not consistent with your SSMP | a. Actions taken for the event | By fax or telephone within 2 working days after starting actions inconsistent with the plan.
| b. The information in § 63.10(d)(5)(ii) | By letter within 7 working days after the end of the event unless you have made alternative arrangements with the permitting authority (§ 63.10(d)(5)(ii)).

Table 12 to Subpart EEEE of Part 63—Applicability of General Provisions to Subpart EEEE
[As stated in § 63.2398, you must comply with the applicable General Provisions requirements according to the following table]:
Citation | Subject | Brief description | Applies to subpart EEEE
§ 63.1 | Applicability | Initial applicability determination; Applicability after standard established; Permit requirements; Extensions, Notifications | Yes.
§ 63.2 | Definitions | Definitions for part 63 standards | Yes
§ 63.3 | Units and Abbreviations | Units and abbreviations for part 63 standards | Yes.
§ 63.4 | Prohibited Activities and Circumvention | Prohibited activities; Circumvention, Severability | Yes.
§ 63.5 | Construction/Reconstruction | Applicability; Applications; Approvals | Yes.
§ 63.6(a) | Compliance with Standards/O&M-Applicability | GP apply unless compliance extension; GP apply to area sources that become major | Yes.
§ 63.6(b) | Compliance Dates for New and Reconstructed Sources | Standards apply at effective date; 3 years after effective date; upon startup; 10 years after construction or reconstruction commences for section 112(f) | Yes.
§ 63.6(b)(5) | Notification | Must notify if commenced construction or reconstruction after proposal | Yes.
§ 63.6(b)(6) | [Reserved] |  |
§ 63.6(b) | Compliance Dates for New and Reconstructed Area Sources that Become Major | Area sources that become major must comply with major source standards immediately upon becoming major, regardless of whether required to comply when they were an area source | Yes.
§ 63.6(c)(1)-(2) | Compliance Dates for Existing Sources | Comply according to date in subpart, which must be no later than 3 years after effective date; for section 112(f) standards, comply within 90 days of effective date unless compliance extension | Yes.
§ 63.6(c)(3)-(4) | [Reserved] |
§ 63.6(c)(5) | Compliance Dates for Existing Area Sources that Become Major | Area sources that become major must comply with major source standards by date indicated in subpart or by equivalent time period (e.g., 3 years) | Yes.
§ 63.6(d) | [Reserved] |  |
§ 63.6(e)(1)-(2) | Operation & Maintenance | Operate to minimize emissions at all times; correct malfunctions as soon as practicable; and operation and maintenance requirements independently enforceable; information Administrator will use to determine if operation and maintenance requirements were met | Yes.
§ 63.6(e)(3) | Startup, Shutdown, and Malfunction (SSM) Plan | Requirement for SSM plan; content of SSM plan | Yes.
§ 63.6(f)(1) | Compliance except During SSM | You must comply with emission standards at all times except during SSM | Yes.
§ 63.6(f)(2)-(3) | Methods for Determining Compliance | Compliance based on performance test, operation and maintenance plans, records, inspection | Yes
§ 63.6(g)(1)-(3) | Alternative Standard | Procedures for getting an alternative standard | Yes.
§ 63.6(h) | Opacity/Visible Emission (VE) Standards | Requirements for opacity and visible emission standards | No. The subpart does not have opacity/VE standards.
§ 63.6(h)(1) | Compliance with opacity/VE Standards | You must comply with opacity/VE standards at all times except during SSM | No.
§ 63.6(h)(2)(i) | Determining Compliance with Opacity/VE Standards | If standard does not state test method, use Method 9 for opacity and Method 22 for VE | No.
§ 63.6(h)(2)(ii) | [Reserved] |  |
§ 63.6(h)(2)(iii) | Using Previous Tests to Demonstrate Compliance with Opacity/VE Standards | Criteria for when previous opacity/VE testing can be used to show compliance with this subpart | No.
§ 63.6(h)(3) | [Reserved] |  |
§ 63.6(h)(4) | Notification of Opacity/VE Observation Date | Must notify Administrator of anticipated date of observation | No.
§ 63.6(h)(5)(i), (iii)-(v) | Conducting Opacity/VE Observations | Dates and schedule for conducting opacity/VE observations | No.
§ 63.6(h)(5)(ii) | Opacity Test Duration and Averaging Times | Must have at least 3 hours of observation with thirty 6-minute averages | No.
§ 63.6(h)(6) | Records of Conditions During Opacity/VE Observations | Must keep records available and allow Administration to inspect | No.
§ 63.6(h)(7)(i) | Report COMS Monitoring Data from Performance Test | Must submit COMS data with other performance test data | No.
§ 63.6(h)(7)(ii) | Using COMS instead of Method 9 | Can submit COMS data instead of Method 9 results even if rule requires Method 9, but must notify Administrator before performance test | No.
§ 63.6(h)(7)(iii) | Averaging Time for COMS during Performance Test | To determine compliance, must reduce COMS data to 6-minute averages | No.
§ 63.6(h)(7)(iv) | COMS Requirements | Owner/operator must demonstrate that COMS performance evaluations are conducted according to § 63.8(e); COMS are properly maintained and operated according to § 63.8(c) and data quality as § 63.8(d) | No.
§ 63.6(h)(7)(v) | Determining Compliance with Opacity/VE Standards | COMS is probable but not conclusive evidence of compliance with opacity standard, even if Method 9 observation shows otherwise. Requirements for COMS to be probable evidence-proper maintenance, meeting PS 1, and data have not been altered | No.
§ 63.6(h)(8) | Determining Compliance with Opacity/VE Standards | Administrator will use all COMS, Method 9, and Method 22 results, as well as information about operation and maintenance to determine compliance | Yes.
§ 63.6(h)(9) | Adjusted Opacity Standard | Procedures for Administrator to adjust an opacity standard | Yes.
§ 63.6(i)(1)-(14) | Compliance Extension | Procedures and criteria for Administrator to grant compliance extension | Yes.
§ 63.6(j) | Presidential Compliance Exemption | President may exempt any source from requirement to comply with subpart | Yes.
§ 63.7(a)(1)-(2) | Performance Test Dates | Dates for conducting initial performance testing and other dates are compliance demonstrations; must contained in conduct 180 days after first subject to subpart | No. These dates are contained in § 63.2354.
§ 63.7(a)(3) | Section 114 Authority | Administrator may require a performance test under CAA section 114 at any time | Yes.
§ 63.7(b)(1) | Notification of Performance Test | Must notify Administrator 60 days before the test | Yes.
§ 63.7(b)(2) | Notification of Rescheduling | If have to reschedule performance test, must notify Administrator of rescheduled date 5 days before scheduled date | Yes.
§ 63.7(c) | Quality Assurance/Test Plan | Requirement to submit site-specific 60 days before the test or on date Administrator agrees with; test plan approval procedures; performance audit requirements; internal and external QA procedures for testing | Yes.
§ 63.7(d) | Testing Facilities | Requirements for testing facilities | Yes.
§ 63.7(e)(1) | Conditions for Conducting Performance Tests | Performance test must be conducted under representative conditions; cannot conduct performance tests during SSM; not a violation to exceed standard during SSM | Yes.
§ 63.7(e)(2) | Conditions for Conducting Performance Tests | Must conduct according to subpart and EPA test methods unless Administrator approves alternative | Yes.
§ 63.7(e)(3) | Test Run Duration | Must have three test runs of at least one hour each; compliance is based on arithmetic mean of three runs; conditions when data from an additional test run can be used | Yes.
§ 63.7(f) | Alternative Test Method | Procedures by which Administrator can grant approval to use an alternative test method | Yes.
§ 63.7(g) | Performance Test Data Analysis | Must include raw data in performance test report; must submit performance test data 60 days after end of test with the notification of compliance status; keep data for 5 years | Yes
§ 63.7(h) | Waiver of Tests | Procedures for Administrator to waive performance test | Yes.
§ 63.8(a)(1) | Applicability of Monitoring Requirements | Subject to all monitoring requirements in standard | Yes.
§ 63.8(a)(2) | Performance Specifications | Performance Specifications in appendix B of 40 CFR part 60 apply | Yes.
§ 63.8(a)(3) | [Reserved] |  |
§ 63.8(a)(4) | Monitoring with Flares | Unless this subpart says otherwise, the requirements for flares in § 63.11 apply | Yes.
§ 63.8(b)(1) | Monitoring | Must conduct monitoring according to standard unless Administrator approves alternative | Yes.
§ 63.8(b)(2)-(3) | Multiple Effluents and Multiple Monitoring Systems | Specific requirements for installing monitoring systems; must install on each effluent before it is combined and before it is released to the atmosphere unless Administrator approves otherwise; if more than one monitoring system on an emission point, must report all monitoring system results, unless one monitoring system is a backup | Yes.
§ 63.8(c)(1) | Monitoring System Operation and Maintenance | Maintain monitoring system in a manner consistent with good air pollution control practices | Yes.
§ 63.8(c)(1)(i) | Routine and Predictable SSM | Follow the SSM plan for routine repairs; keep parts for routine repairs readily available; reporting requirements for SSM when action is described in SSM plan | Yes.
§ 63.8(c)(1)(ii) | SSM not in SSM plan | Reporting requirements for SSM when action is not described in SSM plan | Yes.
§ 63.8(c)(1)(iii) | Compliance with Operation and Maintenance Requirements | How Administrator determines if source complying with operation and maintenance requirements; review of source O&M procedures, records, manufacturer's recommendations; inspections | Yes.
§ 63.8(c)(2)-(3) | Monitoring System Installation | Must install to get representative emission or parameter measurements; must verify operational status before or at performance test | Yes.
§ 63.8(c)(4) | CMS Requirements | CMS must be operating except during breakdown, out-of control, repair, maintenance, and high-level calibration drifts; COMS must have a minimum of one cycle of sampling and analysis for each successive 10-second period and one cycle of data recording for each successive 6-minute period; CEMS must have a minimum of one cycle of operation for each successive 15-minute period | Yes. However, CEMS/COMS are not applicable.
§ 63.8(c)(5) | COMS Minimum Procedures | COMS minimum procedures | No.
§ 63.8(c)(6)-(8) | CMS Requirements | Zero and high level calibration check requirements Out-of-control periods | Yes.
§ 63.8(d) | CMS Quality Control | Requirements for CMS quality control, including calibration, etc.; must keep quality control plan on record for 5 years; keep old versions for 5 years after revisions | Yes.
§ 63.8(e) | CMS Performance Evaluation | Notification, performance evaluation test plan, reports | Yes.
§ 63.8(f)(1)-(5) | Alternative Monitoring Method | Procedures for Administrator to approve alternative monitoring | Yes.
§ 63.8(f)(6) | Alternative to Relative Accuracy Test | Procedures for Administrator to approve alternative relative accuracy tests for CEMS | No.
§ 63.8(g) | Data Reduction | COMS 6-minute averages calculated over at least 36 evenly spaced data points; CEMS 1 hour averages computed over at least 4 equally spaced data points; data that cannot be used in average | Yes. However, CEMS/COMS are not applicable.
§ 63.9(a) | Notification Requirements | Applicability and State delegation | Yes.
§ 63.9(b)(1)-(5) | Initial Notifications | Submit notification within 120 days after effective date; notification of intent to construct/reconstruct, Notification of commencement of construction/reconstruction, Notification of startup; contents of each | Yes.
§ 63.9(c) | Request for Compliance Extension | Can request if cannot comply by date or if installed BACT/LAER | Yes.
§ 63.9(d) | Notification of Special Compliance Requirements for New Sources | For sources that commence construction between proposal and promulgation and want to comply 3 years after effective date | Yes.
§ 63.9(e) | Notification of Performance Test | Notify Administrator 60 days prior | Yes.
§ 63.9(f) | Notification of VE/Opacity Test | Notify Administrator 30 days prior | No.
§ 63.9(g) | Additional Notifications When Using CMS | Notification of performance evaluation; notification about use of COMS data; Notification that exceeded criterion for relative accuracy alternative | Yes. However, there are no opacity/VE standards.
§ 63.9(h)(1)-(6) | Notification of Compliance Status | Contents; due 60 days after end of performance test or other compliance demonstration, except for opacity/VE, which are due 30 days after; when to submit to Federal vs. State authority | Yes.
§ 63.9(i) | Adjustment of Submittal Deadlines | Procedures for Administrator to approve change in when notifications must be submitted | Yes.
§ 63.9(j) | Change in Previous Information | Must submit within 15 days after the change | Yes.
§ 63.10(a) | Recordkeeping/Reporting | Applies to all, unless compliance extension; when to submit to Federal vs. State authority; procedures for owners of more than 1 source | Yes.
§ 63.10(b)(1) | Recordkeeping/Reporting | General requirements; keep all records readily available; keep for 5 years | Yes.
§ 63.10(b)(2)(i)-(iv) | Records Related to Startup, Shutdown, and Malfunction | Occurrence of each for operations (process equipment); occurrence of each malfunction of air pollution control equipment; maintenance on air pollution control equipment; actions during startups, shutdowns, and malfunctions | Yes.
§ 63.10(b)(2)(vi)-(xi) | CMS Records | Malfunctions, inoperative, out-of-control periods | Yes.
§ 63.10(b)(2)(xii) | Records | Records when under waiver | Yes.
§ 63.10(b)(2)(xiii) | Records | Records when using alternative to relative accuracy test | Yes.
§ 63.10(b)(2)(xiv) | Records | All documentation supporting initial notification and notification of compliance status | Yes.
§ 63.10(b)(3) | Records | Applicability determinations | Yes.
§ 63.10(c) | Records | Additional records for CMS | Yes.
§ 63.10(d)(1) | General Reporting Requirements | Requirement to report | Yes.
§ 63.10(d)(2) | Report of Performance Test Results | When to submit to Federal or State authority | Yes.
§ 63.10(d)(3) | Reporting Opacity or VE Observations | What to report and when | Yes.
§ 63.10(d)(4) | Progress Reports | Must submit progress reports on schedule if under compliance extension | Yes.
§ 63.10(d)(5) | Startup, Shutdown, and Malfunction Reports | Contents and submission | Yes.
§ 63.10(e)(1)-(2) | Additional CMS Reports | Must report results for each CEMS on a unit; written copy of CMS performance evaluation; 2-3 copies of COMS performance evaluation | Yes. However, CEMS/COMS are not applicable.
§ 63.10(e)(3)(i)-(iii) | Reports | Schedule for reporting excess emissions and parameter monitor exceedance (now defined as deviations) | Yes. However, note that the title of the report is the compliance report. Deviations are excess emissions or parameter exceedances.
§ 63.10(e)(3)(iv)-(v) | Excess Emissions Reports | Requirement to revert to quarterly submission if there is an excess emissions and parameter monitor exceedances (now defined as deviations); provision to request semiannual reporting after compliance for 1 year; submit report by 30th day following end of quarter or calendar half; if there has not been an exceedance or excess emissions (now defined as deviations), report contents in a statement that there have been no deviations; must submit report containing all of the information in §§ 63.8(c)(7)-(8) and 63.10(c)(5)-(13) | Yes.
§ 63.10(e)(3)(vi)-(viii) | Excess Emissions Report and Summary Report | Requirements for reporting excess emissions for CMS (now called deviations); requires all of the information in §§ 63.10(c)(5)-(13) and 63.8(c)(7)-(8) | Yes.
§ 63.10(e)(4) | Reporting COMS data | Must submit COMS data with performance test data | N/A.
§ 63.10(f) | Waiver for Recordkeeping/Reporting | Procedures for Administrator to waive | Yes.
§ 63.11 | Flares | Requirements for flares | Yes.
§ 63.12 | Delegation | State authority to enforce standards | Yes.
§ 63.13 | Addresses | Addresses where reports, notifications, and requests are sent | Yes.
§ 63.14 | Incorporation by Reference | Test methods incorporated by reference | Yes.
§ 63.15 | Availability of Information | Public and confidential information | Yes.

[FR Doc. 02-7095 Filed 4-1-02; 8:45 am]

BILLING CODE 6560-50-P